ENVIRONMENTAL PROTECTION AGENCY

[FRL-8699-2]

Recent Posting to the Applicability Determination Index (ADI) Database System of Agency Applicability Determinations, Alternative Monitoring Decisions, and Regulatory Interpretations Pertaining To Standards of Performance for New Stationary Sources, National Emission Standards for Hazardous Air Pollutants, and the Stratospheric Ozone Protection Program

AGENCY: Environmental Protection Agency (EPA).

ACTION: Notice of availability.

SUMMARY: This notice announces applicability determinations, alternative monitoring decisions, and regulatory interpretations that EPA has made under the New Source Performance Standards (NSPS); the National Emission Standards for Hazardous Air Pollutants (NESHAP); and the Stratospheric Ozone Protection Program.

FOR FURTHER INFORMATION CONTACT: An electronic copy of each complete document posted on the Applicability Determination Index (ADI) database system is available on the Internet through the Office of Enforcement and Compliance Assurance (OECA) Web site at: http://www.epa.gov/compliance/monitoring/programs/caa/adi.html. The letters and memoranda may be searched on the ADI by date, office of issuance, subpart, citation, control number or by string word searches. For questions about the ADI or this notice, contact Maria Malave at EPA by phone at: (202) 564-7027, or by e-mail at: malave.maria@epa.gov. For technical questions about the individual applicability determinations or monitoring decisions, refer to the contact person identified in the individual documents, or in the absence of a contact person, refer to the author of the document.

SUPPLEMENTARY INFORMATION:

Background:

The General Provisions to the NSPS in 40 Code of Federal Regulations (CFR) part 60 and the NESHAP in 40 CFR part 61 provide that a source owner or operator may request a determination of whether certain intended actions constitute the commencement of construction, reconstruction, or modification. EPA's written responses to these inquiries are commonly referred to as applicability determinations. See 40 CFR 60.5 and 61.06. Although the part 63 NESHAP and section 111(d) of the Clean Air Act regulations contain no specific regulatory provision that sources may request applicability determinations, EPA does respond to written inquiries regarding applicability for the part 63 and section 111(d) programs. The NSPS and NESHAP also allow sources to seek permission to use monitoring or recordkeeping that are different from the promulgated requirements. See 40 CFR 60.13(i), 61.14(g), 63.8(b)(1), 63.8(f), and 63.10(f). EPA's written responses to these inquiries are commonly referred to as alternative monitoring decisions. Furthermore, EPA responds to written inquiries about the broad range of NSPS and NESHAP regulatory requirements as they pertain to a whole source category. These inquiries may pertain, for example, to the type of sources to which the regulation applies, or to the testing, monitoring, recordkeeping or reporting requirements contained in the regulation. EPA's written responses to these inquiries are commonly referred to as regulatory interpretations.

EPA currently compiles EPA-issued NSPS and NESHAP applicability determinations, alternative monitoring decisions, and regulatory interpretations, and posts them on the ADI on a quarterly basis. In addition, the ADI contains EPA-issued responses to requests pursuant to the stratospheric ozone regulations, contained in 40 CFR part 82. The ADI is an electronic index on the Internet with over one thousand EPA letters and memoranda pertaining to the applicability, monitoring, recordkeeping, and reporting requirements of the NSPS and NESHAP. Today's notice comprises a summary of 84 such documents added to the ADI on July 11, 2008. The subject, author, recipient, date and header of each letter and memorandum are listed in this notice, as well as a brief abstract of the letter or memorandum. Complete copies of these documents may be obtained from the ADI through the OECA Web site at: www.epa.gov/compliance/monitoring/programs/caa/adi.html.

Summary of Headers and Abstracts

The following table identifies the database control number for each document posted on the ADI database system on July 11, 2008; the applicable category; the subpart(s) of 40 CFR part 60, 61, or 63 (as applicable) covered by the document; and the title of the document, which provides a brief description of the subject matter.

We have also included an abstract of each document identified with its control number after the table. These abstracts are provided solely to alert the public to possible items of interest and are not intended as substitutes for the full text of the documents. This notice does not change the status of any document with respect to whether it is “of nationwide scope or effect” for purposes of section 307(b)(1) of the Clean Air Act. Neither does it purport to make any document that was previously non-binding into a binding document.

ADI Determinations Uploaded on July 11, 2008
Control No. | Category | Subparts | Title
700029 | NSPS | Db, Dc | Boiler Derating.
700030 | NSPS | Db | Initial Startup for Boiler.
700031 | NSPS | Dc | Applicability to Snowmelters.
700032 | NSPS | CCCC | Municipal Waste Combustion Exemption.
700033 | NSPS | CCCC | Incineration of Untreated Toilet Wastes.
700034 | NSPS | D | Final Boiler Derating.
700035 | NSPS | CCCC | Municipal Waste Combustion Unit Exemption.
700036 | NSPS | Db | Boiler Derating.
700037 | NSPS | GG | Alternative Fuel Monitoring.
700038 | NSPS | Dc | Reporting Reduction.
700039 | NSPS | Dc | Reduction in Fuel Use Recordkeeping.
700040 | NSPS | Dc | Boiler Refiring.
700041 | NSPS | Dc | Alternative Fuel Monitoring.
700042 | NSPS | A, D | Boiler Derating.
700043 | NSPS | Dc | Alternative Fuel Monitoring.
700044 | NSPS | O | Multiple Hearth Sludge Furnace.
700045 | NSPS | A | Waiver of 30-Day Notification of Performance Evaluation.
700046 | NSPS | CCCC | Municipal Waste Combustion Unit Exemption.
700047 | NSPS | Dc | Reduction in Fuel Emissions Reporting.
700048 | NSPS | Dc | Alternative Fuel Monitoring.
700049 | NSPS | GG | Alternative Fuel Monitoring.
700050 | NSPS | D | Boiler Derating.
700051 | NSPS | Ec | Waste Weight Surrogate.
700052 | NSPS | DD | Standards of Performance for Grain Elevators.
700053 | NSPS | Ec | Incineration of Pharmaceutical Wastes.
700054 | NSPS | J | Wet Gas Scrubber Opacity Alternative Monitoring.
700055 | NSPS | A, GG | Alternate Performance Test Method.
700056 | NSPS | III, JJJ | Work Camp Incinerator.
700057 | NSPS | Y | Coal Transloader Applicability.
700058 | NSPS | FFF | Rotogravure Coating Line Applicability.
700059 | NSPS | A, Dc | Alternative Monitoring Plan for Boilers.
700060 | NSPS | Ce, Ec | Request for Regulatory Deviation.
700061 | NSPS | A, Db | Alternative Opacity Monitoring Procedure.
700062 | NSPS | A, Db | Amendment to Alternative Opacity Monitoring Procedure.
700064 | NSPS | H | Monitoring Frequency Reduction.
700065 | NSPS | Db | Boiler Derating.
700066 | NSPS | PPP | Alternative Excess Emissions Criteria.
700067 | NSPS | QQQ | Emission Offset Calculations.
700068 | NSPS | XX | Test Method for Loading Rail Cars at Gasoline Load.
700069 | NSPS | XX | Classification of Vapor Combustor.
700070 | NSPS | J | Alternative Monitoring Plan for Gasoline Loading Racks.
700071 | NSPS | UUU | Synthetic Alumina from Calcining Oven.
700073 | NSPS | WWW | Definition of Treatment for Landfill Gas Processing.
700074 | NSPS | WWW | Definition of Treatment for Landfill Gas Processing.
700075 | NSPS | CCCC | Request for Applicability Determination—Thermal Desorber.
700076 | NSPS | A, TTT | Adjustment of Deadline for Compliance Statements.
700077 | NSPS | IIII | Petition to Use Non-Compliant Fuel.
700078 | NSPS | Ce | Request for Regulatory Deviation/Alternative Determination for Control of Dioxins/Furans (CDD/CDF).
700079 | NSPS | Ce | Request for Regulatory Deviation/Alternative Determination for Control of Dioxins/Furans (CDD/CDF).
700080 | NSPS | Db | Alternate Opacity Monitoring During Construction.
800001 | NSPS | Dc | Alternative Fuel Usage Recordkeeping Proposal.
800002 | NSPS | OOO | Test Waiver Proposal.
800003 | NSPS | J | Alternative H2S Monitoring Frequency.
800004 | NSPS | J | Alternative Monitoring Proposals.
800005 | NSPS | WWW | Definition of Treatment.
800006 | NSPS | H | Appendix F (CEM QA) Applicability.
800007 | NSPS | UUU | Method 9 Test Waiver.
800008 | NSPS | OOO | Test Waiver Request.
800009 | NSPS | J | Alternative H2S Monitoring Proposal.
800010 | NSPS | WWW | Operational and Monitoring Alternatives.
800011 | NSPS | Cb | Alternative Monitoring Location.
800012 | NSPS | WWW | Applicability of Well Monitoring Requirements.
800013 | NSPS | Db | Proposal to Shorten Test Duration.
800014 | NSPS | GG | Alternative Quality Assurance Procedures.
800015 | NSPS | Db | Predictive Emission Monitoring System.
800016 | NSPS | Db | Applicability to Wood Burner/Thermal Oil Heater/Rotary Dryer System.
M070016 | MACT | EEE | Hydrogen Chloride Continuous Emissions Monitor (CEM).
M070017 | MACT | UUU | Wet Gas Scrubber Opacity Alternative Monitoring.
M070018 | MACT | EEE | Monitoring of Scrubber System Solid Content.
M070019 | MACT | EEE | Alternative Measure to Control Combustion Gas Leaks.
M070020 | MACT | G | Alternative Monitoring Plan.
M070021 | MACT | EEE | Monitoring Procedure System and Time Delay for AWFCO.
M070022 | MACT | R | Test Method for Loading Rail Cars at Gasoline Loading Facility.
M070023 | MACT | ZZZZ | Request for Alternative Monitoring and Testing.
M070024 | MACT | EEE | Responses to Comprehensive Performance Test Plan Addendum and Alternative Monitoring Application.
M070025 | MACT | EEE | Response to Alternative Monitoring Application Requests.
M070026 | MACT | EEE | Response to Alternative Monitoring Application Requests.
M070027 | MACT | EEE | Response to Alternative Monitoring Application Requests.
M070028 | MACT | EEE | Response to Alternative Monitoring Application Requests.
M070029 | MACT | EEE | Response to Alternative Monitoring Application Requests.
M070030 | MACT | EEE | Response to Alternative Monitoring Application Requests.
M080004 | MACT | FFFF | Standards for Hazardous Air Pollutants for Miscellaneous Organic Chemical Manufacturing.
Z070002 | NESHAP | E | Incineration of Untreated Toilet Wastes.
Z080001 | NESHAP | WWW | Definition of Treatment for Landfill Gas Processing.
Z080002 | NESHAP | WWW | Definition of Treatment for Landfill Gas Processing.

Abstract for [0700029]

Q: Is Blaine Larsen Farms' (BLF) boiler, located at the Dehydration Division potato processing plant in Dubois, Idaho, derated and therefore subject to the requirements of 40 CFR part 60, subpart Dc, rather than 40 CFR part 60, subpart Db?

A: Yes. EPA determines that BLF's boiler has been derated and is now subject to NSPS subpart Dc, because the burner has been replaced with one that will limit the boiler capacity to less than 100 mmBtu/hr, as verified by testing, and it meets the four derate criteria, as specified in the EPA response letter.

Abstract for [0700030]

Q: Has initial startup occurred for a boiler at the Warm Springs Forest Products Industries' facility in Warm Springs, Oregon, under 40 CFR part 60, subpart Db? The facility has conducted boil-out and curing.

A: No. Because the “Instruction Manual for Clarification of Startup in Source Categories Affected by New Source Performance Standards” (EPA-68-01-4143) states that startup is defined as the first time steam is produced by the boiler and used to provide heat or hot water to run process equipment or to produce electricity, EPA finds that the boil-out and curing of the refractory is therefore a pre-startup activity.

Abstract for [0700031]

Q: Is a snowmelter with a rated capacity between 10 and 100 MMBtu/hr that is operated by the Ted Stevens Anchorage International Airport subject to 40 CFR part 60, subpart Dc?

A: No. EPA determines that NSPS subpart Dc does not apply to snowmelters. Although a snowmelter is a device that combusts fuel and melts ice resulting in the heating of water, the heated water is not being used for transferring heat from one point to another for any useful purpose such as heating a building or creating steam to drive a process. Therefore, the heated water would not qualify as a heat transfer medium.

Abstract for [0700032]

Q: Is the Pioneer Natural Resources Alaska, Incorporated (PNRA) incineration unit located at its Oooguruk Development Project Offshore Drill Site camp on the North Slope, Alaska, exempted from the requirements of the NSPS for Commercial and Industrial Solid Waste Incineration Units at 40 CFR part 60, subpart CCCC?

A: Yes. Based on the information submitted in the notification required to claim the exemption under 40 CFR § 60.2020(c)(2), EPA finds that this incinerator would meet the exemption criteria in 40 CFR 60.2020(c)(2), and is therefore required to meet the applicable recordkeeping requirements established by this provision. The incinerator would meet the criteria of burning greater than 30 percent municipal solid waste or refuse-derived fuel (as defined in NSPS subparts Ea, Eb, AAAA, and BBBB) in its fuel feed stream. This incinerator will primarily burn waste generated by a housing camp associated with the PNRA facility, along with some industrial packing and other non-hazardous waste materials from drilling support activities on site.

Abstract for [0700033]

Q1: Is Anadarko's double-chamber cyclonator forced-air solid waste incinerator with a capacity of 2.4 tons per day, constructed after November 1999, that has been seasonally located and intermittently operated at remote oil and gas exploration sites on the North Slope of Alaska since January 2003, subject to 40 CFR part 60, subpart CCCC?

A1: Yes, EPA concludes that a waste incinerator with a capacity of 2.4 tons per day, constructed after November 1999, that has been seasonally located and intermittently operated at remote oil and gas exploration sites, is subject to NSPS subpart CCCC. EPA considers this incinerator to be located at an industrial facility, and even though the incinerator may be moved from one location to the next, it will be a distinct operating unit of an industrial facility.

Q2: Is 40 CFR part 61, subpart E, the Mercury NESHAP, applicable to an incineration unit that incinerates untreated sanitary waste (solids) collected from Pacto toilets at Anadarko's remote oil and gas exploration sites on the North Slope of Alaska?

A2: No. The practice of incinerating sanitary waste composed of untreated solids from Pacto toilets does not meet the description of incinerating sludge under the Mercury NESHAP. 40 CFR 61.50 states that the rule applies to “those stationary sources which * * * incinerate or dry wastewater treatment plant sludge.” Under 40 CFR 61.51, sludge is defined as “sludge produced by a treatment plant that processes municipal or industrial waste waters.” Thus, the Mercury NESHAP would not apply.

Abstract for [0700034]

Q1: Does EPA approve the proposal of Roseburg Forest Products (RFP) of Roseburg, Oregon, to derate two boilers, regulated under 40 CFR part 60, subpart D, by eliminating the capacity of both boilers to burn oil and replacing the burners with burners that are limited to burning less than 250 MMBtu/hr of natural gas, provided that the natural gas pressure delivered to the boilers is monitored?

A1: Yes. EPA believes that the changes made by RFP meet the derate criteria because installation of a new burner is a permanent change to the boiler, which requires a system shutdown, cannot be easily undone, and is not just a change to the fuel feed system. Based on the performance test data submitted, EPA has concluded that the capacity of the boilers does not exceed the 250 MMBtu/hr applicability threshold, provided the pressures are maintained below 9.16 psig for Boiler No. 2 and 7.33 psig for Boiler No. 6 (calculated using a three-hour average). Therefore, Boilers No. 2 and No. 6 are no longer subject to NSPS subpart D, if the limits on gas pressure are monitored and maintained below the threshold values per the Title V permit.

Abstract for [0700035]

Q: Is FEX L.P.'s incineration unit located at FEX L.P.'s Artic Wolf Camp for housing associated with its Northwest National Petroleum Reserve Exploration Drilling Project on the North Slope, Alaska, exempted from the requirements of the NSPS for Commercial and Industrial Solid Waste Incineration Units, under 40 CFR part 60, subpart CCCC?

A: Yes. Based on the information submitted in the notification required to claim the exemption under 40 CFR § 60.2020(c)(2), EPA finds that this incinerator would meet the exemption criteria in 40 CFR 60.2020(c)(2), and is therefore required to meet the recordkeeping requirements established in this provision. The incinerator would meet the exemption criteria of burning greater than 30 percent municipal solid waste or refuse-derived fuel (as defined in NSPS subparts Ea, Eb, AAAA, and BBBB) in its fuel feed stream. This incinerator will burn primarily residential-type waste generated by a housing camp and cafeteria facilities that are associated with the FEX facility, along with industrial packing and other non-hazardous waste materials from drilling support activities on site.

Abstract for [0700036]

Q1: May Blaine Larsen Farms (BLF) derate its 40 CFR part 60, subpart Db boiler at the Dehydration Division potato processing plant in Dubois, Idaho, by restricting the fuel-metering valves? This would be accomplished with an adjustment to the valve, and the adjustment screws would either be locked into place with a locking device that requires a special tool to undo or be sealed with epoxy.

A1: No. EPA determines that this approach would not be valid to derate a boiler under NSPS subpart Db for several reasons. Neither proposed method for locking the screws would be considered permanent. A derate must reduce the capacity of the boiler without the installation of a feed rate governor. Changes that are made only to fuel feed systems are not acceptable for a derate.

Q2: May Blaine Larsen Farms derate its 40 CFR part 60, subpart Db boiler by replacing the burner?

A2: Yes. EPA finds that the replacement of the burner is an acceptable method to derate a burner under NSPS subpart Db since it meets the deration criteria, including: (1) It is a change that cannot be easily undone, (2) requires a system shutdown to accomplish or reverse, and (3) it is not just a change to the fuel feed system.

Q3: May the American Society of Mechanical Engineers Performance Test, Code 4-1998, be used as the verification test method to demonstrate a derate has been accomplished under 40 CFR part 60, subpart Db?

A3: Yes. EPA finds that this method has been used before to successfully demonstrate that a derate has been accomplished under NSPS subpart Db.

Q4: Is Blaine Larsen Farms test protocol verification method acceptable to demonstrate that a derate has been accomplished under 40 CFR part 60, subpart Db?

A4: Yes. EPA determines that the results of the protocol verification method would be acceptable under NSPS subpart Db if BLF continuously monitors fuel feed rates and maintains information regarding the fuel heat content in order to ensure that the unit does not exceed 100 mmBtu/hr of heat input.

Abstract for [0700037]

Q1: Does EPA approve the use of a certified nitrogen oxide continuous emission monitoring system (NOX CEMS) to document compliance with 40 CFR part 60, subpart GG NOX limit in lieu of a performance test for compliance analysis after the new fuel is introduced for stationary gas turbines operated by Klamath Energy, LLC of Portland, Oregon?

A1: Yes. EPA conditionally approves the use of a certified NOX CEMS because it finds that as long as the provisions of 40 CFR § 60.334(b) are followed, CEMS are enough to satisfy compliance with the emission limit for NOX. 40 CFR § 60.334(g) states that a performance test is required only when equipment parameters need to be established.

Q2: Does EPA waive fuel nitrogen content monitoring of 40 CFR part 60, subpart GG, if part 75 NOX CEMS are used for the Klamath Energy plant?

A2: EPA finds that whether or not the turbine is also subject to part 75, the fuel nitrogen content monitoring is waived only if the NOX emission allowance in the equations used to determine the NSPS subpart GG NOX emission standards in 40 CFR § 60.332 is not claimed.

Q3: Does EPA waive the 40 CFR part 60, subpart GG requirement for water-to-fuel injection ratio monitoring because of the use of the part 75 certified CEMS for the Klamath Energy plant?

A3: Yes. EPA finds that under 40 CFR § 60.334(b) the owner or operator may, as an alternative to water-to-fuel injection monitoring, install, certify, maintain, operate, and quality assure a CEMS if the provisions of 40 CFR § 60.334(b) are followed.

Q4: Does EPA approve the use of vendor analyses under 40 CFR part 60, subpart GG, for monitoring sulfur content of the fuel oil burned for the Klamath Energy plant?

A4: Yes. EPA conditionally approves the use of vendor analyses since it finds that under 40 CFR 60.334(i)(1), the fuel oil sampling for total sulfur content can be done at each delivery. Oil sampling may be performed by a fuel supplier, provided that the sampling is performed according to either the single tank composite sampling procedure or the all-levels sampling procedure in ASTM D4057-88.

Abstract for [0700038]

Q: Does EPA approve the request from the St. Luke's Meridian Medical Center (SLMMC) facility in Meridian, Idaho, for a reduction in the submittal frequency of the fuel emission reports from semiannually to annually, for two boilers (Boilers No. 1 and No. 2) at the facility under 40 CFR part 60, subpart Dc?

A: Yes. EPA conditionally approves a reduction in the submittal frequency of the fuel emission reports from semiannually to annually on the basis that SLMMC receives only one shipment of distillate oil per year. SLMMC shall submit all fuel supplier certifications as described in 40 CFR 60.48(f)(1), postmarked by the last day of January of each year. If any additional shipments of fuel are received during the year, the fuel supplier certification will be submitted to the Idaho Department of Environmental Quality within 30 days. Each annual report shall include a certified statement signed by the owner or operator of SLMMC's facility that the fuel supplier certifications attached to the report represent all of the distillate oil received by SLMMC for the purposes of fueling the above-referenced boilers during the reporting period.

Abstract for [0700039]

Q1: Does EPA approve a request from Gossner Foods (Gossner) for a reduction in the fuel usage recordkeeping requirement in 40 CFR 60.48c from daily to monthly for Gossner's two boilers in Heyburn, Idaho, which fire natural gas as the primary fuel and propane as a backup fuel?

A1: Yes. EPA approves this request based on a memorandum dated February 20, 1992, from the EPA Office of Air Quality Planning and Standards, which states that there is little value in requiring daily recordkeeping of the amounts of fuel combusted for an affected unit that fires only natural gas under NSPS subpart Dc. This is because subpart Dc does not have any emission limitations for units that fire only natural gas. Therefore, the purpose of this recordkeeping is to verify that only natural gas is fired. Propane is considered to be a type of natural gas.

Q2. Does EPA approve a request from Gossner to use one gas meter to record monthly natural gas and/or propane usage for Gossner's two boilers?

A2: Yes. EPA approves this request. EPA finds that the Gossner proposal to divide each boiler design heat input capacity by the total of the design heat input capacities of each boiler, and use this to prorate the natural gas and/or propane usage of each boiler on a monthly basis, when more than one boiler is firing natural gas and/or propane simultaneously, will adequately determine the natural gas and/or propane usage by each boiler.

Abstract for [0700040]

Q: Does EPA approve an alternative plan for monitoring opacity at the Basic American Foods (BAF) facility in Blackfoot, Idaho, in lieu of a Continuous Opacity Monitoring System (COMS), under 40 CFR part 60, subpart Dc, where the COMS will not provide accurate measurements due to water vapor from a proposed wet scrubber?

A: Yes. According to the provisions of 40 CFR 60.13(h)(i)(1), a written application for alternative opacity monitoring requirements can be submitted when “installation of a continuous emission monitoring system or monitoring device specified by this part would not provide accurate measurement due to liquid water or other interferences caused by substances with the effluent gasses.” EPA has previously approved similar requests, which are posted on EPA's applicability determination index. (See EPA Determination Control Numbers 0000010 and 0300073.) In previous requests, EPA has determined that the continuous monitoring of the scrubbing liquid flow rate and the pressure drop of the gas stream across the scrubber is acceptable as an alternative monitoring to the COMS. EPA approves the alternative monitoring plan that the Idaho Department of Environmental Quality has recommended and BAF has agreed to.

Abstract for [0700041]

Q1: Does EPA approve monthly instead of daily monitoring of exclusive use of low-sulfur distillate oil in a 40 CFR part 60, subpart Dc affected boiler operated by Hampton Lumber Mill at a facility in Darrington, Washington?

A1: Yes. EPA approves monthly instead of daily monitoring of exclusive use of low-sulfur distillate oil in an NSPS subpart Dc affected boiler.

Q2: For this same facility, does EPA approve the use of fuel receipts from a low-sulfur distillate oil supplier as a monthly monitoring method under 40 CFR part 60, subpart Dc?

A2: Yes. EPA approves the use of fuel receipts from a low-sulfur distillate oil supplier as a monthly monitoring method under NSPS subpart Dc.

Q3: Does EPA find that the amount of low-sulfur distillate oil used at that facility can be divided evenly between two similar boilers under 40 CFR part 60, subpart Dc?

A3: Yes. EPA finds that the amount of low-sulfur distillate oil used at a facility can be divided evenly between two similar boilers under NSPS subpart Dc, as long as they have the same rated capacity and operate in a way that emissions from either boiler are substantially similar if based on the same amount of fuel.

Abstract for [0700042]

Q: Do changes proposed by Roseburg Forest Products (RFP) to two large boilers in Dillard, Oregon, result in the boilers being derated under 40 CFR part 60, subpart D? RFP has eliminated the capacity of both boilers to burn oil and made changes to the boilers that reduce the total heat input capacity for both boilers to less than 245.7 MMBtu/hr for natural gas. RFP proposed to conduct additional monitoring and performance testing to verify that the capacity of the boilers has been reduced.

A: Although the changes RFP has made to its boilers appear to meet many of the criteria for derating boilers, EPA requires submission of source test data verifying that the capacity of the boilers has been reduced before EPA will determine that the RFP boilers have been derated. Any such verification testing should be conducted while each boiler is operating at its maximum capacity for a 24-hour period for each fossil fuel that the boiler has the capability of burning. EPA expects RFP to monitor the gas pressure during the performance test to verify the correlation of gas pressure to heat input. In addition, to ensure reliability of the performance test results, RFP should submit a performance test plan to EPA for approval prior to the test and follow the general provisions of 40 CFR part 60, subpart A, for performance tests, such as notifying EPA in advance of the test.

Abstract for [0700043]

Q1: Does EPA approve monthly instead of daily monitoring of natural gas usage in a 40 CFR part 60, subpart Dc affected boiler at the proposed J. R. Simplot Company facility near Mountain Home, Idaho?

A1: Yes. EPA approves monthly instead of daily monitoring of natural gas usage in this NSPS subpart Dc affected boiler.

Q2: Does EPA approve the use of fuel receipts from a gas supplier to serve as a monthly monitoring method under 40 CFR part 60, subpart Dc, for an affected boiler at the proposed J. R. Simplot Company facility near Mountain Home, Idaho?

A2: Yes. EPA approves the use of fuel receipts from a gas supplier to serve as monthly monitoring method under NSPS subpart Dc.

Q3: Does EPA find that all of the natural gas used at a facility can be attributed to the 40 CFR part 60, subpart Dc affected boilers, if there is some gas used by a unit that is a facility not covered by any other regulation, as proposed by the J. R. Simplot Company facility near Mountain Home, Idaho?

A3: Yes. EPA finds that all of the natural gas used at a facility can be attributed to the NSPS subpart Dc affected boilers, even if there is some gas used by another unit, as long as that other unit is a facility not covered by any other regulation.

Q4: Does EPA find that the amount of natural gas used at a facility can be divided evenly between two similar boilers under 40 CFR part 60, subpart Dc, as proposed by the J. R. Simplot Company facility near Mountain Home, Idaho?

A4: Yes. EPA finds that the amount of natural gas used at a facility can be divided evenly between two similar boilers under NSPS subpart Dc, as long as they have the same rated capacity and operate in a way that emissions from either boiler are substantially similar if based on the same amount of fuel.

Abstract for [0700044]

Q: Is the Anchorage Water and Wastewater Utility (AWWU) subject to 40 CFR part 60, subpart O, based on changes and upgrades that are planned for the emission control system on AWWU's multiple hearth sludge furnace (MHF) at the Asplund Wastewater Treatment Facility?

A: EPA determines that the MHF continues to be subject to NSPS subpart O. The MHF was constructed in 1986 and is subject to NSPS subpart O, which is applicable to a facility constructed after June 11, 1973. The upgrades to AWWU's facility do not affect applicability status because the facility is already subject to NSPS subpart O based on the date of construction.

Abstract for [0700045]

Q: Does EPA grant a waiver to Flint Hills Resources Alaska of the 30-day notification of performance evaluation for recently installed sulfur dioxide (SO2) Continuous Emission Monitoring System according to 40 CFR 60.7(a)(5) and 60.8(d)?

A: Yes. EPA grants a waiver of the 30-day notification of performance evaluation, under 40 CFR 60.19(f)(3), because of the need to meet deadlines that have been laid out in a Compliance Order by Consent.

Abstract for [0700046]

Q: Is Anadarko Petroleum Corporation's incineration unit at the Jacobs Ladder Exploration Drilling Project on the North Slope, Alaska, exempted from the requirements of 40 CFR part 60, subpart CCCC?

A: Based on the information submitted in the notification required to claim the exemption under 40 CFR 60.2020(c)(2), EPA finds that this incinerator would meet the exemption criteria in 40 CFR 60.2020(c)(2), and is therefore required to meet the recordkeeping requirements established in this provision. Under 40 CFR 60.2020(c)(2), an exemption is provided for units that burn greater than 30 percent municipal solid waste or refuse-derived fuel (as defined in NSPS subparts Ea, Eb, AAAA, and BBBB) in their fuel feed stream. This incinerator will burn primarily residential-type waste generated by a housing camp and cafeteria facilities that is associated with the Anadarko facility, along with some industrial packing and other non-hazardous waste materials from drilling support activities on site.

Abstract for [0700047]

Q: Does EPA approve a reduction in the submittal frequency of the fuel emission reports to annually for two boilers using natural gas, except for approximately eight hours per month when diesel fuel is used as a backup, under 40 CFR part 60, subpart Dc, at the St. Luke's Regional Medical Center in Boise, Idaho?

A: Yes. EPA approves a reduction in the submittal frequency of the fuel emission reports to annually. For a boiler that only fires natural gas and distillate oil with sulfur content of less than 0.5 percent, these reports consist only of fuel oil suppliers' certifications and a certified statement of the owner or operator. Because this facility receives only one shipment of distillate oil per year, it would be redundant to require more than annual submittal of this information. As long as the facility receives only one shipment of distillate oil a year, it shall submit all fuel supplier certifications as described in 40 CFR 60.48(f)(1), postmarked by the last day of January of each year.

Abstract for [0700048]

Q1: Does EPA approve a reduction in the fuel usage recordkeeping requirement in 40 CFR part 60, subpart Dc, from daily to monthly when only pipeline quality natural gas is and will be fired in two boilers operated by Boise Paper Solutions of Boise Cascade Corporation?

A1: Yes. EPA approves a reduction in the fuel usage recordkeeping requirement in 40 CFR 60.48c from daily to monthly when only pipeline quality natural gas is and will be fired in the boilers.

Q2: Does EPA approve the use of monthly natural gas bills to fulfill the recordkeeping requirement in 40 CFR part 60, subpart Dc as proposed by Boise Paper Solutions of Boise Cascade Corporation?

A2: Yes. EPA approves the use of monthly natural gas bills to fulfill the recordkeeping requirement of 40 CFR 60.48c, provided that all natural gas on the fuel receipt is attributed to use in the two boilers, regardless of the small amount that may be used for other purposes, such as space heating, and that the amount of natural gas used in each boiler is apportioned in equal proportions.

Abstract for [0700049]

Q: Does EPA approve a reduction in the monitoring schedule for fuel gas sulfur content from quarterly to semiannually under 40 CFR part 60, subpart GG, at Calpine Hermiston Power Plant in Oregon, based upon demonstrated compliance and low variability for six quarters?

A: Yes. EPA approves this alternative fuel monitoring request. In addition, based on amendments to NSPS subpart GG, promulgated on July 8, 2004, the requirement to monitor the sulfur content of natural gas may be waived.

Abstract for [0700050]

Q: Does EPA approve a source test protocol for determinations of the maximum heat input for use in a boiler derate demonstration, under 40 CFR part 60, subpart D, at the Roseburg Forest Products facility in Roseburg, Oregon?

A: Yes. Based upon a review of the source test protocol and the Piping and Instrument Diagram for the natural gas systems for both boilers, EPA concludes that, under NSPS subpart D, if the source test is conducted according to the protocol, it should provide the information required to verify the maximum heat input, namely, gas flow rate, calorific value, and supply pressure.

Abstract for [0700051]

Q: May a “bag counting” surrogate method for determining the weight of incinerated waste be used to determine whether the co-fired combustor exemption of 40 CFR part 60, subpart Ec, applies to a BP Exploration Alaska Incorporated waste incinerator located at the Northstar Development Facility in the Beaufort Sea?

A: No. EPA finds that the surrogate method described will not provide the accuracy required by the recordkeeping requirements of NSPS subpart Ec. It is not clear from the request whether a distinction is made between the differences in the weight of a typical bag of hospital and medical/infectious waste and the weight of a typical bag of other waste. Also, if an average weight of a bag of hospital and medical/infectious waste is used, this may underestimate the actual amount of hospital and medical/infectious waste that is being burned. Thus, EPA has determined that the proposed surrogate method cannot be used for the determination of whether the co-fired combustor exemption in 40 CFR 60.50c(c) is met. EPA will consider a different weight surrogate method that adequately ensures that the exemption is met with a margin for error.

Abstract for [0700052]

Q1: Does the addition of storage capacity, which did not increase the hourly grain handling capacity, trigger applicability of 40 CFR part 60, subpart DD, for the Busch Agricultural Resources, Incorporated (BARI) Malt Plant Facility in Idaho Falls, Idaho?

A1: Yes. EPA determines that the increase in storage capacity triggers NSPS subpart DD applicability. The grain storage capacity exceeded 2.5 million bushels in 2002 when the permanent storage capacity was increased to 4 million bushels. Because the permanent storage capacity for this facility exceeds 2.5 million bushels, the facility meets the definition of a grain terminal elevator, as defined in NSPS subpart DD, and is subject to the NSPS. In addition, 60.304(b)(4) of subpart DD, which states that “the installation of permanent storage capacity without an increase in hourly grain handling capacity by itself would not be considered a modification of an existing facility”, does not apply to BARI. Section 60.304(b)(4) of subpart DD does not apply to those affected facilities that are constructed at the time applicability was triggered or subsequent to that time.

Q2: Is 40 CFR part 60, subpart DD, applicable to the following activities and equipment at the BARI Idaho Falls Malt Plant Facility in Idaho Falls, Idaho:

(1) Malt load out operations;

(2) Residual/byproduct storage and load out operations;

(3) Conveyors located inside the malt house that are used to move barley and off-kiln malt through the malt house operation; and

(4) A baghouse filter that is dedicated solely to controlling dust emissions from grain and malt handling within the malt house operation.

A2: EPA determines the applicability for each of the specific activities and equipment at BARI, as follows:

(1) NSPS subpart DD is not applicable to malt load out operations.

(2) NSPS subpart DD is not applicable to the storage and load out operations of residuals or byproducts provided it is not possible for these operations to handle grain. Reject hulls, grain fragments or dirt that is handled and stored separately, as well as malted barley and malting by-products, are not considered grain.

(3) Equipment being used is subject to NSPS subpart DD if it handles unmalted barley part of the time, and malted and unmalted barley at the same time because it is handling some amount of grain, as well as conveyors located inside the malt house that are used to move unmalted barley. However, conveyors located inside the malt house that are used to move off-kiln malt are not subject to NSPS subpart DD.

(4) Emissions from a baghouse that is controlling dust from grain and malt handling within the malt house operation are subject to NSPS subpart DD, because the commingled emissions include grain handling emissions that are subject to NSPS subpart DD.

Abstract for [0700053]

Q: Does the incineration of pharmaceutical wastes disposed of by Providence Alaska Medical Center, a hospital in Alaska, require an incineration facility, under 40 CFR part 60, subpart Ec, or 40 CFR part 62, subpart HHH, to demonstrate compliance with Hospital/Medical/Infectious Waste Incinerator (HMIWI) rules?

A: Yes. EPA finds the HMIWI regulation applies to the incineration of hospital, medical, and infectious wastes. EPA defines “hospital waste” broadly, and it includes any waste or discarded materials generated at a hospital, except unused items returned to the manufacturer. Thus, pharmaceutical wastes generated at a hospital and disposed of by the hospital are considered “hospital waste” under the rules, and a facility that incinerates such waste is subject to HMIWI.

Abstract for [0700054]

Q: Does EPA approve an alternative monitoring plan in lieu of the continuous opacity monitoring (COMS) requirements of 40 CFR 60.105(a)(1) and corresponding requirements of 40 CFR part 63, subpart UUU, where a wet scrubber is to be installed on Puget Sound Refining's (PSR's) fluidized catalytic cracking unit (FCCU) in Anacortes, Washington?

A: Yes. EPA approves the monitoring of the liquid flow rate and gas flow rate for the wet gas scrubber, which is a jet-ejector design. Calculation of the liquid-to-gas ratio must be done as outlined in Tables 2 and 3 of Maximum Achievable Control Technology (MACT) subpart UUU, except that for purposes of determining and reporting excess emissions for the FCCU, a 3-hour rolling average of the liquid-to-gas ration will be used.

Abstract for [0700055]

Q: Does EPA allow the use of an alternate performance test method for stationary gas turbines, under 40 CFR part 60, subpart GG, at ConocoPhillips Alaska Incorporated's Alpine Development Project in North Slope Alaska?

A: Yes. EPA approves the use of an alternate performance test method, under NSPS subpart GG, only if the probe is designed and conforms to the tests specified in EPA Guidance Document CG-031.

Abstract for [0700056]

Q1: Should an incinerator used to dispose of camp wastes at a remote, temporary work camp in Nuiqsut, Alaska, and operated by Alaska Interstate Construction, LLC (AIC), be subject to 40 CFR part 62, subpart III, the Federal Plan Requirements for Commercial Industrial Solid Waste Incinerators (CISWI)?

A1: Yes. EPA determines that the work camp is an integral part of a commercial operation, the AIC facility, and would not be there but for generating profit as a commercial operation under 40 CFR part 62, subpart III. The term “commercial facility” is not defined in the CISWI regulation, but the American Heritage Dictionary defines commercial as “having profit, success, or immediate results as [a] chief aim.” Thus, the work camp incinerator would be considered to be located at a “commercial or industrial facility” and would be subject to CISWI.

Q2: Should AIC's work camp incinerator, which burns primarily municipal solid waste, be regulated under 40 CFR part 62, subpart III?

A2: Yes. EPA finds that the incinerator should be regulated under CISWI. The fact that the waste incinerated is considered to be municipal solid waste does not mean that the incinerator would not be considered to be a CISWI unit. This is apparent because of the exemption that is provided for CISWI units under 40 CFR 62.14525(c)(2) for units that burn greater than 30 percent municipal solid waste. AIC's work camp incinerator is considered to be a CISWI, but because it burns greater than 30 percent municipal solid waste, it has an exemption under NSPS subpart III.

Abstract for [0700057]

Q: Does EPA find that a coal transloader located in Port Wentworth, Georgia, next to Georgia Power's Plant Kraft Steam-Electric Generating Plant, and a coal preparation plant, which provides coal to the Plant Kraft units, are subject to 40 CFR part 60, subpart Y?

A: No. EPA has determined that the transloader is not part of the coal preparation plant on the property since it not connected to any of its breaking, crushing, screening, wet or dry cleaning, or thermal drying equipment, and thus is not subject to NSPS subpart Y. Since the coal preparation plant was constructed prior to the applicability date of October 24, 1974, it is not subject to NSPS subpart Y.

Abstract for [0700058]

Q: Is the installation of three solvent-based laminators at the Catalyst International's rotogravure urethane coating line and printing operations, located in Delaware County, Pennsylvania, subject to 40 CFR part 60, subpart FFF?

A: Yes. EPA has determined that because the two new laminators to be installed at Catalyst's Pennsylvania facility will coat a urethane web, on a continuous basis, with an adhesive that meets the definition of ink given in the NSPS subpart FFF rule using a gravure cylinder, these laminators are subject to NSPS subpart FFF.

Abstract for [0700059]

Q: Does EPA approve an alternative monitoring plan for boilers 1 and 2 that fire fuels with low sulfur content at the Hercules' Franklin, Virginia plant under 40 CFR part 60, subpart Dc?

A: EPA approves the alternative fuel sampling methodology for Hercules' boiler 2. Hercules may use fuel supplier certifications in lieu of a continuous opacity monitor (COM) to prove that very low sulfur fuels are being combusted, and get relief from particulate emission monitoring pursuant to 40 CFR 60.47c(a). EPA disapproved the alternative monitoring proposal for Hercules' boiler 1 to use scrubber parametric monitoring in lieu of installing a COM. Hercules will need to install a particulate matter (PM) continuous emission monitoring system (CEMS) unless it can show that this is not a viable alternative to a COM.

Abstract for [0700060]

Q1. Does EPA approve a request to deviate from the assumption that a violation of the hydrogen chloride (HCl) emission occurs if the Curtis Bay Energy facilities in Baltimore, Maryland, operate their Hospital/Medical/Infectious Waste Incinerators (HMIWIs) above the maximum charge rate and below the minimum HCl sorbent flow rate simultaneously, as stated in 40 CFR part 60, subpart Ec, at § 60.56c(e)(3)? The facilities have actual hydrogen chloride (HCl) emissions data from an EPA compliant continuous HCl emissions monitor on a real-time basis.

A1. Yes. EPA agrees that the actual data, obtained from an EPA compliant continuous HCl monitor on a real-time basis, that shows HCl emissions are within the allowable limit of either 100 parts per million by volume adjusted to 7 percent oxygen measured on a dry basis at standard conditions or 93 percent reduction, is superior to using surrogate parameter of HCl sorbent flow rate. An EPA compliant continuous HCl monitor must meet Performance Specification 2 in 40 CFR part 60, specifically the Specifications and Test Procedures for SO2 and NOX Continuous Emission Monitoring Systems in Stationary Sources in Appendix B, and the quality assurance procedures specified in Appendix F, including the revised Relative Accuracy Test Audit (RATA) calculation procedures in Enclosure 1 of the response letter. In addition, a CEMS for oxygen must be installed, calibrated, maintained, and operated in accordance with the requirements of Appendices B and F of part 60. EPA describes additional requirements applicable for CEMS in the EPA response letter and its Enclosure 1.

Q2. Does EPA approve a request to eliminate the operating parameter monitoring requirements for maximum charge rate as specified in § 60.57c(a) and Table 3 of 40 CFR part 60, subpart Ec, at the Curtis Bay Energy Hospital/Medical/Infectious Waste Incinerators (HMIWIs) located in Baltimore, Maryland?

A2. No. EPA finds that the maximum charge rate is an operating parameter used to determine compliance with other applicable emission limits in addition to HCl emission limits. The definition for maximum charge rate given in § 60.51c of 40 CFR for a continuous and intermittent HMIWI is “* * * 110 percent of the lowest 3-hour average charge rate measured during the most recent performance test demonstrating compliance with all applicable emission limits.” By definition, the maximum charge rate is linked to compliance with all applicable emission limits which include particulate matter (PM), carbon monoxide (CO), dioxins/furans, HCl, lead (Pb), cadmium (Cd), mercury (Hg), sulfur dioxide (SO2), nitrogen oxides (NOX), and opacity. EPA will not grant approval to eliminate monitoring of the maximum charge rate as an operating parameter since it is linked to all emission limits and not linked only to HCl emissions.

Q3. Does EPA approve a request to eliminate the operating parameter monitoring requirements for minimum hydrogen chloride (HCl) sorbent flow rate as specified in § 60.57c(a) and Table 3 of 40 CFR part 60, subpart Ec, at the Curtis Bay Energy Hospital/Medical/Infectious Waste Incinerators (HMIWIs) located in Baltimore, Maryland?

A3. Yes. EPA conditionally approves the request to eliminate monitoring the minimum HCl sorbent flow rate as an operating parameter when the HCl emissions are measured using an EPA compliant continuous HCl monitor, as described in the EPA response letter.

Q4. Does EPA approve a request to eliminate the recordkeeping requirements for HMIWI charge dates, times, and weights and hourly charge rates as specified in § 60.58c(b)(2)(iii) in 40 CFR part 60, subpart Ec, at the Curtis Bay Energy HMIWIs, located in Baltimore, Maryland?

A4. No. EPA finds that, as previously stated in the answer to question 2 of this determination, the maximum charge rate parameters are linked to other emission limits besides HCl emission limits.

Q5. Does EPA approve a request to eliminate the recordkeeping requirements for the amount and type of HCl sorbent used during each hour of operation as specified in § 60.58c(b)(2)(vii) in 40 CFR part 60, subpart Ec, at the Curtis Bay Energy HMIWIs located in Baltimore, Maryland?

A5. Yes. EPA agrees that actual data from an EPA compliant continuous HCl monitor, as described in the EPA response letter, will provide HCl emissions information better than using surrogate parameters such as amount and type of HCl sorbent.

Abstract for [0700061]

Q: Does EPA approve an alternative opacity monitoring procedure, under 40 CFR part 60, subpart Db, for an auxiliary boiler at the Cardinal Power Plant, located in Brilliant, Ohio, that has a design heat input capacity of 652.58 million British Thermal Units per hour and that combusts only number 2 fuel oil?

A: Yes. EPA conditionally approves this alternative opacity monitoring procedure under NSPS subpart Db, and states the conditions and requirements of the approval in the EPA response letter.

Abstract for [0700062]

Q: Does EPA find that condition three of the March 15, 2006, Approval, related to visible emission readings by a certified observer using Method 9 at the auxiliary boiler stack, apply to four hours of continuous operation or cumulative operation under CFR part 60, Appendix A, at the Cardinal Operating Company's facility in Brilliant, Ohio?

A: Yes. EPA finds that condition three applies to four hours of continuous operation under NSPS subpart A.

Abstract for [0700064]

Q: Is the proposed reduction in the monitoring frequency for the 321-M machining room at the Savannah River Company's facility in Aiken, South Carolina, acceptable under 40 CFR part 60, subpart H?

A: Yes. EPA finds that replacing continuous monitoring with quarterly confirmatory sampling to verify low emissions is acceptable under NSPS subpart H, based upon review of data submitted with the proposal.

Abstract for [0700065]

Q: Is the procedure that United Distillers proposed for derating a boiler at its plant in Louisville, Kentucky in order to avoid applicability under 40 CFR part 60, subpart Db acceptable?

A: Yes. EPA conditionally approves the boiler derate since the proposal meets the criteria that a derate must be permanent and cannot be reversed with shutting down the boiler. For this unit, a derate that involves replacing a natural gas control valve with a smaller valve and changing the internal components in the fuel oil control valve to restrict the oil firing rate are acceptable under NSPS subpart Db because they cannot be reversed without shutting the unit down. As a condition for approval for this derate, United Distillers must monitor fuel usage in order to verify that the actual heat input for the unit never exceeds 100 million British thermal units per hour.

Abstract for [0700066]

Q1: Are the alternative parameter operating limits that Knauf Fiberglass has proposed to use for defining excess emissions at its Lanett, Alabama, plant acceptable under 40 CFR part 60, subpart PPP?

A1: Yes. Based upon information provided by the manufacturer of the electrostatic precipitator (ESP) installed on Knauf's wool fiberglass insulation line, EPA finds that the requirement to monitor ESP primary current, primary voltage, and secondary current can be waived since monitoring secondary voltage, inlet water flow, and inlet water solids content will provide adequate information about ESP performance under NSPS subpart PPP.

Q2. Would EPA approve the Knauf Fiberglass request to use an alternative definition of excess emissions with respect to the certain operating parameters for which monitoring is required under subpart PPP. Specifically, Knauf Fiberglass requests that scrubber pressure drops, scrubber water flows, ESP secondary voltages, and ESP inlet water flows greater than 130 percent of baseline levels during a successful performance test and ESP inlet water solids content less than 70 percent of the baseline during a successful performance test not be considered periods of excess emissions. The term, excess emissions, is defined under NSPS subpart PPP as any monitoring data that is less than 70 percent of the lowest value or more than 130 percent of the highest value of each operating parameter recorded during the most recent performance test.

A2. Yes. Knauf Fiberglass request is acceptable. EPA agrees that control device efficiency should improve when operating in these ranges.

Abstract for [0700067]

Q: Does EPA allow emissions reductions that occurred at the Ashland Oil facility in Catlettsburg, Kentucky, when installing controls in order to comply with 40 CFR part 61, subpart FF, be used as emission offsets to avoid applicability under 40 CFR part 60, subpart QQQ, by offsetting emission increases resulting from the installation of new drains to an existing aggregate system?

A: No. EPA finds that emission reductions achieved through activities which are for the purpose of attaining compliance with another rule cannot be used as emission offsets to avoid applicability under this rule. This position has been stated in a previous EPA determination issued by Region 10 under NSPS subpart 60. [SEE ADI Control Number 9700065.]

Abstract for [0700068]

Q: Does EPA approve an alternative test method and operating limit, under 40 CFR part 60, subpart XX and 40 CFR part 63, subpart R, for the Philtex/Ryton Complex (Philtex) in Borger, Texas?

A: Yes. EPA approves an alternative testing and operating limits specified in § 60.502(h) of subpart XX and § 63.425(e) of subpart R on the basis of specific stipulations, which address: The maximum flow of vapors from loading operations; the heat content of vapors routed to the flare during loading operations; the leak tightness of rail cars; detecting leaks and repairing the vapor manifold system; verifying that excess emissions will not occur from storage tanks at the maximum pressures during loading; ensuring gasoline is loaded into only rail cars which pass the leak test; and monitoring the pressure continuously in the vapor collection manifold system.

Abstract for [0700069]

Q: Should vapor combustors be considered incineration devices or process flares under 40 CFR part 60, subpart XX?

A: EPA determines that the vapor combustor is an incinerator and thus should be tested as such. Vapor combustors do not meet the design criteria of any one of the three flare types listed in § 60.18 of the General Provisions. Additionally, vapor combustors can be emission tested using EPA reference methods.

Abstract for [0700070]

Q: Does EPA approve an alternative monitoring plan for gasoline loading racks and a hydrogen plant, under 40 CFR part 60, subpart J, located at TPI Petroleum's Ardmore petroleum refinery? TPI wants to install a continuous monitoring system for periodic fuel gas sampling, instead of a continuous emission monitoring system.

A: EPA Headquarters is reviewing the applicability of NSPS part 60, subpart J to refinery generated gas streams that are combusted in refinery combustion devices, such as in product loading rack systems and hydrogen production facilities. That review is currently on-going at a national level. These nationally significant NSPS part 60, staff in EPA Headquarters office in Washington, D.C. EPA Region 6 office does not have the authority to process this request until a national determination has been made.

Abstract for [0700071]

Q1: Does EPA find that any materials used as a feedstock on the Spherical Catalyst Manufacturing (SCM) Line 1 at UOP's Shreveport, Louisiana plant meet the 40 CFR part 60, subpart UUU usage of the term “mineral” (such as “alumina”)?

A1: No. EPA finds none of the feed materials used on SCM Line 1 (pure aluminum, hydrochloric acid, and/or aluminum hydroxychloride solution) are a “mineral,” as the term is used in the definition of “mineral processing plant,” located in NSPS subpart UUU at § 60.731.

Q2: Is synthetic alumina produced on the SCM Line 1 at UOP's Shreveport, Louisiana plant, using a combination of pure aluminum, hydrochloric acid, and/or aluminum hydroxychloride solution, a process that meets that applicability criteria in § 60.730 of 40 CFR part 60, subpart UUU?

A2: No. EPA finds that the synthetic alumina produced on SCM Line 1 does not meet the applicability criteria in § 60.730 of 40 CFR part 60, subpart UUU.

Q3: Is SCM Line 1, located at UOP's Shreveport, Louisiana plant, not processing a “mineral,” as the term is used in 40 CFR part 60, subpart UUU, and not producing a “mineral,” as the term is used in the definition of the affected facility (each calciner and dryer at a “mineral processing plant”) in subpart UUU, potentially subject to NSPS subpart UUU?

A3: No. EPA determines SCM Line 1 cannot be subject to NSPS subpart UUU, because it neither processes a “mineral,” nor does it produce a “mineral,” and, therefore, it does not meet the NSPS subpart UUU definition of a “mineral processing plant”.

Abstract for [0700073]

Q: Does EPA consider the gas processing system which includes two turbines at the DFW Recycling and Disposal Facility in Lewisville, Texas, to be treatment under 40 CFR part 60, subpart WWW, pursuant to 40 CFR 60.752(b)(2)(iii)(C)?

A: Yes. EPA considers the specified compression, filtration, and moisture removal from the landfill gas for use in an energy recovery device to be treatment under NSPS subpart WWW, pursuant to 40 CFR 60.752(b)(2)(iii)(C). Because the turbines will be exempt from monitoring, they do not have to be included in the Startup, Shutdown, and Malfunction (SSM) Plan required by 40 CFR part 63, subpart AAAA. However, the treatment system supplying gas to the turbines will have to be included in the SSM Plan.

Abstract for [0700074]

Q: Does EPA consider the gas processing system which includes reciprocating internal combustion (IC) engines at the Austin Community Landfill in Austin, Texas, to be treatment under 40 CFR part 60, subpart WWW, pursuant to 40 CFR 60.752(b)(2)(iii)(C)?

A: Yes. EPA considers the specified compression, filtration, and moisture removal from the landfill gas for use in an energy recovery device to be treatment under NSPS subpart WWW, pursuant to 40 CFR 60.752(b)(2)(iii)(C). Because the engines will be exempt from monitoring, they do not have to be included in the Startup, Shutdown, and Malfunction (SSM) Plan required by 40 CFR part 63, subpart AAAA. However, the treatment system supplying gas to the IC engines will have to be included in the SSM Plan.

Abstract for [0700075]

Q: Does EPA consider the thermal desorber and pollution control system which treats diesel-contaminated drilling cuttings, under construction by Pollution Management, Incorporated in Beebe, Arkansas, to be subject to 40 CFR part 60, subpart CCCC?

A: No. EPA does not consider the specified treatment of this material, diesel-contaminated drilling cuttings, by low temperature thermal desorption followed by a pollution control system, to be subject to 40 CFR part 60, subpart CCCC.

Abstract for [0700076]

Q: Morton Custom Plastics Company in Harrisburg, North Carolina is subject to 40 CFR part 60, subpart TTT and requests a change in the due dates for its semiannual compliance statements. Does EPA allow an adjustment in the due dates?

A: No. The NSPS General Provisions at § 60.19 allow an adjustment in the postmark deadline for semiannual compliance statements when information is provided which indicates that an adjustment is warranted. Since Morton Custom Plastics has provided no information to support a change in the deadline, EPA does not approve the company's request.

Abstract for [0700077]

Q: The City of Winston-Salem, North Carolina, operates an emergency generator which is subject to 40 CFR part 60, subpart IIII and is required by § 60.4207(a) to use diesel fuel meeting the requirements of 40 CFR 80.510(a), beginning October 1, 2007. Does EPA approve the request that the City use the remaining non-compliant fuel in its inventory for six months following October 1, 2007, pursuant to § 60.4207(c)?

A: Yes. EPA approves the City of Winston-Salem's request under NSPS subpart IIII. Based on EPA's review of the information provided, the City's petition is approved pursuant to § 60.4207, and the City may use the remaining non-compliant fuel in the emergency generator for a period of six months past the deadline of October 1, 2007.

Abstract for [0700078]

Q1: Does EPA approve a request to deviate from the assumption that a violation of the dioxin/furan (CDD/CDF) emission occurs if the Curtis Bay Energy (CBE) facilities in Baltimore, Maryland, operate their Hospital/Medical/Infectious Waste Incinerator (HMIWI) above the maximum fabric filter inlet temperature, above the maximum charge rate, and below the minimum dioxin/furan sorbent flow rate simultaneously as stated in 40 CFR part 60, subpart Ec, at § 60.56c(e)(2)?

A1: Yes. EPA conditionally approves the request under NSPS subpart Ec to deviate from the assumption that a violation of the CDD/CDF emission limit occurs, if the facility simultaneously operates above the maximum fabric filter inlet temperature, above the maximum charge rate, and below the minimum dioxin/furan sorbent flow rate, provided five conditions are met pertaining to fabric inlet temperature, incinerator carbon monoxide emissions, opacity limits, the feed rate for the powdered activated carbon system, and the compliance characteristics of the incinerator's operation.

Q2: Does EPA approve a request to eliminate the operating parameter monitoring requirements for maximum charge rate, as specified in § 60.57c(a) and Table 3 of 40 CFR part 60, subpart Ec, at the CBE facilities in Baltimore, Maryland?

A2: No. EPA finds the maximum charge rate is an operating parameter used to determine compliance with other applicable emission limits in addition to dioxin/furan emission limits. EPA's rationale for this determination is explained in its August 7, 2006 letter to CBE regarding this matter. A brief explanation is that the definition for maximum charge rate given in § 60.51c of 40 CFR for a continuous and intermittent HMIWI is “* * * 110 percent of the lowest 3-hour average charge rate measured during the most recent performance test demonstrating compliance with all applicable emission limits.” By definition, the maximum charge rate is linked to compliance with all applicable emission limits which includes particulate matter (PM), carbon monoxide (CO), dioxins/furans, HCl, lead (Pb), cadmium (Cd), mercury (Hg), sulfur dioxide (SO2), nitrogen oxides (NOX), and opacity. EPA will not grant approval under NSPS subpart Ec to eliminate monitoring the maximum charge rate as an operating parameter since it is linked to all emission limits and not linked only to dioxin/furan emissions.

Q3: Does EPA approve a request to eliminate the operating parameter monitoring requirements for maximum fabric filter inlet temperature as specified in § 60.57c(a) and Table 3 of 40 CFR part 60, subpart Ec, at the CBE facilities in Baltimore, Maryland?

A3: Yes. EPA conditionally approves the request under NSPS subpart Ec, provided that requirements are met pertaining to inlet fabric filter temperature, carbon monoxide emissions, and COMS operation.

Q4: Does EPA approve a request to eliminate minimum dioxin/furan sorbent flow rate as specified in § 60.57c(a) and Table 3 of 40 CFR part 60, subpart Ec, at the CBE facilities in Baltimore, Maryland?

A4: Yes. EPA conditionally approves the request under NSPS subpart Ec, provided that the facilities install, calibrate, and maintain the powdered activated carbon (PAC) flow rate at a rate of at least 90 percent of the highest sorbent feed rate based on a 3-hour rolling average (readings taken at least once every hour) measured during the most recent performance test demonstrating compliance with mercury emission limit.

Q5: Does EPA approve a request to eliminate the recordkeeping requirements for HMIWI charge dates, times, and weight and hourly charge rates, under 40 CFR part 60, subpart Ec, at the CBE facilities in Baltimore, Maryland?

A5: No. EPA does not approve CBE's request to eliminate the recordkeeping requirements for HMIWI charge dates, times, and weights and hourly charge rates under NSPS subpart Ec. This determination is consistent with EPA's previous determination letters of July 13 and August 7, 2006 to CBE regarding this matter.

Q6: Does EPA approve a request to eliminate the recordkeeping requirements for the amount and type of dioxin/furan and sorbent used during each hour of operation under 40 CFR part 60, subpart Ec, at the CBE facilities in Baltimore, Maryland?

A6: Yes. EPA conditionally approves the request to eliminate the sorbent flow rate recordkeeping requirements for the primary control system for CDD/CDF emissions provided CBE maintains records of the date and time of identified bag failures including the date and time that failed bags were replaced. In addition, CBE shall maintain hourly records of PAC flow rate as required by Maryland's 111(d)/129 Plan (COMAR 26.11.08.08-1) provision relating to the main operating parameter for controlling mercury emissions. For the CBE incinerator units, the PAC system provides incidental or secondary control of CDD/CDF. Also, as a final condition, EPA is requiring that the approved CBE alternative monitoring and recordkeeping requirements (including an approved SOP under Item 1) in this letter and in the other two (2) approval letters (to date July 13, 2006 and August 7, 2006) be included in a revised CBE Title V Operating Permit Application and be submitted in a timely manner to the Maryland Department of the Environment for incorporation into the Title V Operating Permit. Summary tables are in letter.

Abstract for [0700079]

Q1: Does EPA approve Curtis Bay Energy (CBE) alternative monitoring request to deviate from the assumption that a violation of the dioxin/furan (CDD/CDF) emission occurs if the facility operates their Hospital/Medical/Infectious Waste Incinerator (HMIWI) above the maximum fabric filter inlet temperature, above the maximum charge rate, and below the minimum dioxin/furan sorbent flow rate simultaneously as stated in 40 CFR part 60, subpart Ec § 60.56c(e)(2), for its two existing, large-sized, continuous HMIWI Operations located in Baltimore, Maryland?

A1: Yes, EPA conditionally approves the request to deviate from the assumption that a violation of the CDD/CDF emission limit occurs, if the facility simultaneously operates above the maximum fabric filter inlet temperature, above the maximum charge rate, and below the minimum dioxin/furan sorbent flow rate provided CBE meets the five conditions described in the EPA response letter. The five conditions were established based on EPA's review of the Remedia Catalytic Filter System performance guarantee conditions of W. L. Gore and Associates, Incorporated; the CBE standard operating procedure for Baghouse Operations; and summaries of five consecutive annual CDD/CDF stack tests (15 stack test run summaries) conducted during the period from February 2002 through February 2006.

Q2: Does EPA approve a request to eliminate the operating parameter monitoring requirements for maximum charge rate as specified in 40 CFR 60.57c(a) and Table 3 of 40 CFR part 60, subpart Ec?

A2: No. As indicated in a previous EPA response dated August 7, 2006 to CBE, the maximum charge rate is an operating parameter used to determine compliance with other applicable emission limits in addition to dioxin/furan emission limits. The definition for maximum charge rate given in 40 CFR 60.51c for a continuous and intermittent HMIWI is “* * * 110 percent of the lowest 3-hour average charge rate measured during the most recent performance test demonstrating compliance with all applicable emission limits.” By definition, the maximum charge rate is linked to compliance with all applicable emission limits which includes particulate matter (PM), carbon monoxide (CO), dioxins/furans, HCl, lead (Pb), cadmium (Cd), mercury (Hg), sulfur dioxide (SO2), nitrogen oxides (NOX), and opacity. EPA will not grant approval to eliminate monitoring the maximum charge rate as an operating parameter since it is linked to all emission limits and not linked only to dioxin/furan emissions. This determination is consistent with a previous EPA response to CBE dated August 7, 2006.

Q3: Does EPA approve a request to eliminate the operating parameter monitoring requirements for maximum fabric filter inlet temperature as specified in § 60.57c(a) and Table 3 of 40 CFR part 60, subpart Ec?

A3: Yes, EPA conditionally approves the request provided that the requirements described in the EPA response letter are met. This determination is consistent with two previous EPA responses to CBE dated July 13, 2006 and August 7, 2006.

Q4: Does EPA approve a request to eliminate minimum dioxin/furan sorbent flow rate as specified in § 60.57c(a) and Table 3 of 40 CFR part 60, subpart Ec?

A4: Yes, EPA conditionally approves the request provided that the requirement described in the EPA response letter is met.

Q5: Does EPA approve a request to eliminate the recordkeeping requirements for HMIWI charge dates, times, and weight and hourly charge rates?

A5: No. EPA will not approve the request to eliminate the recordkeeping requirements for HMIWI charge dates, times, and weights and hourly charge rates since these records are needed to demonstrate continuous compliance. This determination is consistent with two previous EPA responses to CBE dated July 13, 2006 and August 7, 2006.

Q6: Does EPA approve a request to eliminate the recordkeeping requirements for the amount and type of dioxin/furan and sorbent used during each hour of operation of the control equipment?

A6: Yes. EPA conditionally approves the request to eliminate the sorbent flow rate recordkeeping requirements for the primary control system for CDD/CDF emissions, as specified in § 60.57c(a) and Table 3 of 40 CFR part 60, subpart Ec, provided CBE meets the conditions for alternative monitoring and recordkeeping requirements, and submits a timely revised Title V Operating Permit Application incorporating such conditions, as specified in the EPA response letter.

Abstract for [0700080]

Q: Does EPA approve an alternative opacity monitoring procedure, under 40 CFR part 60, subpart Db, for a limited time period due to construction of new boilers and having to bypass the existing continuous opacity monitors at the University of Virginia's main heating plant in Charlottesville, Virginia?

A: Yes. Under the circumstances, EPA approves the use of Method 9 procedures, under NSPS subpart Db, for the short period that the existing continuous opacity monitor must be bypassed to tie in two new boilers.

Abstract for [0800001]

Q: Is a proposal to monitor fuel usage on a monthly basis, rather than a daily basis, acceptable under 40 CFR part 60, subpart Dc, for seven natural gas fired boilers at the Department of the Army's base in Fort Benning, Georgia?

A: Yes. Since there are no applicable emission limits under 40 CFR part 60, subpart Dc for boilers that combust natural gas, EPA determines compliance for these affected facilities can be adequately verified with monthly fuel usage records. NSPS subpart Dc contains emissions limits for sulfur dioxide and particulate, but these limits are only applicable to units that combust coal, oil, and/or wood.

Abstract for [0800002]

Q: Is the initial performance particulate testing requirement at a baghouse that controls emissions from a crusher, which runs for approximately 15 to 20 minutes per day, waived under 40 CFR part 60, subpart OOO (Standards of Performance for Nonmetallic Mineral Processing Plants) for the Carbo Ceramics Company in McIntyre, Georgia?

A: EPA conditionally approves waiving the initial performance test for particulate matter testing requirement under § 60.11(b). Carbo Ceramics Company must conduct the visible emission observation testing, required under § 60.11(b), for a period of at least one hour (10 six-minute averages) at the exit of the baghouse, which is approved by EPA under § 60.8(b)(5) due to the intermittent use of the crusher.

Abstract for [0800003]

Q: Is the reduced hydrogen sulfide monitoring frequency that Shell Chemical proposed for a fuel gas stream generated in No. 1 Naphtha Splitter at their Mobile, Alabama refinery acceptable for 40 CFR part 60, subpart J?

A: Yes. EPA determines that Shell's proposal to reduce the monitoring frequency from four times per day to once per quarter is acceptable, based on the review of historical monitoring data submitted with the request which confirms that hydrogen sulfide is not present in the fuel gas stream.

Abstract for [0800004]

Q1: Are alternative hydrogen sulfide monitoring procedures and frequencies proposed for three fuel gas streams subject to 40 CFR part 60, subpart J, at the Hunt Refining Company facility in Tuscaloosa, Alabama acceptable?

A1: Yes. EPA finds all three of the proposed alternatives are acceptable because the hydrogen sulfide content of these streams is inherently low.

Q2: Is the alternative monitoring proposal to monitor the continuous presence of a pilot flame at an enclosed flare, subject to NESHAP subpart R, in lieu of temperature monitoring at the firebox, acceptable under 40 CFR part 60, subpart J, for the Hunt Refining Company facility in Tuscaloosa, Alabama?

A2: No. EPA denies the alternative monitoring proposal since monitoring the pilot flame at an enclosed flare alone is not adequate to demonstrate continuous compliance. This conclusion is based upon several previous EPA determinations and the revisions to NESHAP subpart R, promulgated by EPA in 2003.

Abstract for [0800005]

Q: Do the natural gas processing steps for gas collected for combustion in internal combustion engines to produce electricity at three landfills located in Florida including Trail Ridge Landfill (Baldwin), Brevard County Landfill (Cocoa), and Seminole County Landfill (Geneva), constitute “treatment” under 40 CFR part 60, subpart WWW?

A: Yes. EPA finds that this combination of processing steps constitutes treatment, as stated in several previous EPA determinations. In addition, the treated gas would not be subject to control requirements under subpart WWW since the gas from all three landfills is filtered to one micron, dewatered, and compressed.

Abstract for [0800006]

Q: What is the required frequency for relative accuracy test audits (RATAs) on sulfur dioxide continuous emission monitoring systems installed on sulfuric acid plants subject to 40 CFR part 60, subpart H as referred to in the letter from Koogler and Associates?

A: EPA finds that the only RATA that part 60 specifically requires for sulfur dioxide monitors installed under subpart H is the one conducted during the initial performance test on the facility. It would also be appropriate to require an additional RATA when existing monitors are being recertified. In addition, state and local agencies may require more frequent RATAs on a case-by-case basis.

Abstract for [0800007]

Q: Does EPA approve the use an alternative performance test method, under 40 CFR part 60, subpart UUU, to verify compliance with the applicable opacity limit for rotary sand dryers located inside of buildings at two Triangle Brick Company plants in Moncure, North Carolina and Wadesboro, North Carolina, if no visible emissions are detected during a 75-minute EPA Method 22 observation period on the exterior of the buildings?

A: Yes. EPA finds that the proposed performance testing procedures, consisting of Method 22 observations made on the exterior of the buildings where they are located, would be acceptable in lieu of EPA Method 9 for rotary sand dryers located inside of buildings. The EPA Method 22 procedures are similar to a compliance option under 40 CFR part 60, subpart OOO (Standards of Performance for Nonmetallic Mineral Processing Plants), allow for affected facilities located inside buildings. 40 CFR 60.8(b)(4) allows for the requirement for an initial performance test to be waived when an owner or operator demonstrates through other means that an affected facility is in compliance.

Abstract for [0800008]

Q: Does EPA approve the Duke Energy Corporation request for a waiver of the requirement to conduct Method 5 testing on forced air mechanical vents on limestone transfer towers and reagent preparation buildings at three power plants at the Marshall, Belews Creek, Allen, and Cliffside Stations in North Carolina under 40 CFR part 60, subpart OOO?

A: Yes. EPA finds that, based upon the design and operation of the affected facilities within the transfer towers and reagent preparation buildings, particulate emissions should be extremely low. Due to the low potential for emissions, waiving the Method 5 testing requirement for any forced air mechanical vent where no visible emissions are detected over the course of a one-hour Method 9 observation period would be acceptable to EPA.

Abstract for [0800009]

Q: Is monitoring the strength of the solution in the caustic scrubber for a fuel gas stream at the Chevron Products Company refinery in Pascagoula, Mississippi an acceptable alternative to continuously monitoring the hydrogen sulfide content of the fuel gas stream?

A: Yes. EPA approves the alternative monitoring plan with the condition that Chevron amends it to specify what steps the company will take if monitoring data indicates that the caustic solution is more than 80 percent spent, the maximum allowable strength.

Abstract for [0800010]

Q1: Is a proposal to delay the installation of gas collection wells in active areas that have held waste for five years or more at the Three Rivers Landfill in Aiken County, South Carolina, acceptable under 40 CFR part 60, subpart WWW?

A1: No. EPA finds that the proposal is not acceptable under NSPS subpart WWW since the collection system would be less effective than that required under provisions in 40 CFR 60.753. The use of the leachate collection system only to extract gas from active areas that have held waste for five years or more will result in a less effective system than one that incorporates both the leachate system components and properly located extraction wells.

Q2: Does EPA allow quarterly methane surface concentration monitoring to be waived for roads, active areas, truck traffic areas, and areas with slopes greater than 3:1, at the Three Rivers Landfill located in Aiken County, South Carolina under 40 CFR part 60, subpart WWW?

A2: EPA waives the monitoring for roads, but not for the other areas covered by the request under NSPS subpart WWW. Based upon previous EPA determinations, surface methane monitoring requirements cannot be waived for active areas, truck traffic areas, or areas with slopes less than 4:1.

Q3: Does EPA find that a probe may be placed near the tops of vegetation as an alternative to placing the methane surface concentration monitoring probe within five to ten centimeters of the landfill surface, at the Three Rivers Landfill in Aiken County, South Carolina under 40 CFR part 60, subpart WWW?

A3: No. EPA finds this proposal is not acceptable under NSPS subpart WWW because dilution of the sample will result in the methane concentration being lower at the top of vegetation than it is at the landfill surface.

Q4: Does EPA waive the requirement to monitor the temperature of internal combustion engines used as control devices at the Three Rivers Landfill be waived under 40 CFR part 60, subpart WWW?

A4: No. Although EPA finds that the combustion temperature monitoring requirement cannot be waived under NSPS subpart WWW, EPA has approved temperature monitoring alternatives in the past. Therefore, Three Rivers Landfill may want to consider approval of a similar alternative for its site.

Q5: Does EPA approve the use of an orifice plate for measuring the flow rate to the flare that serves as backup control device at the Three Rivers Landfill under 40 CFR part 60, subpart WWW?

A5: Yes. The use of orifice plates are commonly used for measuring process flow rates, therefore, such practice is appropriate and does not require prior EPA approval for use at the Three Rivers Landfill.

Q6: Does EPA approve the use of a continuous relighter as an alternative to a heat sensing device, such as an ultraviolet beam sensor or thermocouple at the pilot light or in the flame, for a backup flare expected to operate for 120 days or less per year at the Three Rivers Landfill under 40 CFR part 60, subpart WWW?

A6: No. EPA determines that a continuous relighter is not an acceptable substitute for a heat sensing device under NSPS subpart WWW, as stated in a previous EPA determination.

Abstract for [0800011]

Q: Are the alternative locations that Montenay Charleston proposed for installing the carbon monoxide (CO) continuous emission monitoring systems on its municipal waste combustor units in Charleston, South Carolina acceptable under 40 CFR part 60, subpart Cb?

A: Yes. Based upon information supplied with the request, EPA finds that the CO concentration at the proposed alternative monitoring sites is representative of the concentration at the monitoring site specified in NSPS subpart Cb.

Abstract for [0800012]

Q: Does EPA approve delaying implementation of the pressure, temperature, and oxygen monitoring requirements under 40 CFR part 60, subpart WWW until September 2010, for seven wells that are located in an active area that first received waste in September 2005, at the Chestnut Ridge Landfill in Heiskell, Tennessee?

A: EPA finds that the proposal to delay monitoring for these wells would be consistent with the intent of § 60.753 in NSPS subpart WWW provided that the area of the landfill where the wells are located is not closed or does not reach final grade prior to September 2010.

Abstract for [0800013]

Q1: Is the shortened test duration that the Tennessee Valley Authority (TVA) proposed for the initial nitrogen oxides performance test on two auxiliary boilers at the Cumberland Fossil Plant in Cumberland, Tennessee acceptable under 40 CFR part 60, subpart Db?

A1: Yes. EPA finds that the TVA proposal to shorten the initial performance test to three hours is acceptable under NSPS subpart Db because of the high cost of conducting a 24-hour test outweighs any benefit associated with a test of this duration.

Q2: Is the TVA proposal to conduct future performance tests every 400 hours of operation instead of conducting annual performance tests at the Cumberland Fossil Plant in Cumberland, Tennessee acceptable under 40 CFR part 60, subpart Db?

A2: No. EPA finds that the proposal to base the schedule for future performance testing only on hours of operation is not acceptable under NSPS subpart Db due to the lack of historical information regarding the frequency of operation and the margin of compliance for the units in question. Since burning fuel in order to operate the auxiliary boilers only for testing purposes would be a waste of resources, the requirement to conduct annual tests may be waived during any year when the auxiliary units are not used for starting up the power boilers at the Cumberland Fossil Plant.

Abstract for [0800014]

Q: Is the Duke Energy proposal to use quality assurance (QA) procedures and schedules from 40 CFR part 75 to satisfy QA requirements for the combustion turbines at its electric power peaking plant in Brownsville, Tennessee acceptable under 40 CFR part 60, subpart GG?

A: Yes. EPA approves this request because the turbines in question operate intermittently, and the proposed alternative procedures reduce the likelihood that Duke will need to operate the turbines only for testing purposes during some calendar quarters under NSPS subpart GG. EPA has approved similar proposals in the past.

Abstract for [0800015]

Q: Is the proposal to use a predictive emission monitoring system (PEMS) as a substitute for a nitrogen oxides continuous emission monitoring system on Boiler No. 6 at the Oak Ridge National Laboratory (ORNL) acceptable?

A: No. EPA does not approve using a PEMS to measure nitrogen oxides emissions for Boiler No. 6 at this time. EPA would be willing to consider this proposal if ORNL submits additional information for the PEMS based on a relative accuracy test and provides a description of the quality assurance program for the PEMS.

Abstract for [0800016]

Q1: Does EPA find that 40 CFR part 60, subpart Db applies to a wood burner/thermal oil heater/rotary dryer system at the Norbord Georgia Incorporated (Norbord) oriented strand board manufacturing facility in Cordele, Georgia?

A1: Yes. EPA finds that the wood burner/thermal oil heater/rotary dryer system is a steam generating unit, and is therefore subject to NSPS subpart Db.

Q2: Does EPA approve an alternative opacity monitoring procedure for the wood burner/thermal oil heater/rotary dryer system for Norbord facility located in Cordele, Georgia, since the formation of condensate may interfere with a continuous opacity monitoring system (COMS) under 40 CFR part 60, subpart Db? Norbord proposes that the exhaust from the system be ducted through a wet electrostatic precipitator and then through two regenerative thermal oxidizers (RTOs).

A2: No. EPA finds that Norbord has not provided information to justify an alternative monitoring procedure under NSPS subpart Db. The temperature of the exhaust exiting the RTOs should exceed the dew point of the steam, therefore, there is no reason to assume that water droplets will interfere with a COMS.

Abstract for [M070016]

Q: Does EPA approve an alternative monitoring request under 40 CFR part 63, subpart EEE, for Veolia ES Technical Solutions, L.L.C. of Sauget, Illinois, to use an extractive hydrogen chloride (HCl) continuous emission monitoring system (CEMS) to demonstrate compliance with the hydrogen chloride/chlorine gas emission standard and waive the monitoring requirements pertaining to spray dryer scrubbers set forth in 40 CFR 63.1209(o)(4)(i), (ii) and (iii)?

A: No. EPA finds the request does not include any data or information to demonstrate the HCl CEMS initial accuracy, precision, and reliability under MACT subpart EEE. Further, the request does not document periodic (daily, quarterly, and annually) quality assurance and quality control procedures for each HCl CEMS.

Abstract for [M070017]

Q: Does EPA approve an alternative monitoring plan in lieu of the continuous opacity monitoring requirements of 40 CFR 60.105(a)(1) and corresponding requirements of 40 CFR part 63, subpart UUU, where a wet scrubber is to be installed on Puget Sound Refining's fluidized catalytic cracking unit (FCCU) in Anacortes, Washington?

A: Yes. EPA approves the monitoring of the liquid flow rate and gas flow rate for the wet gas scrubber, which is a jet-ejector design. Calculation of the liquid-to-gas ratio must be done as outlined in Tables 2 and 3 of 40 CFR part 63, subpart UUU, except that for purposes of determining and reporting excess emissions for the FCCU, a 3-hour rolling average of the liquid-to-gas ration will be used.

Abstract for [M070018]

Q: Does EPA approve an alternative monitoring application (AMA), submitted in conjunction with the Comprehensive Performance Test (CPT) plan, for the Celanese Clear Lake Plant (Celanese) located in Pasadena, Texas, consisting of the use of minimum liquid levels in the condenser/absorber and entrainment separator in conjunction with minimum blowdown rate from the quench receiver to monitor solids content of the scrubber liquid under 40 CFR part 63, subpart EEE?

A: Yes. EPA conditionally approves the AMA under MACT subpart EEE if Celanese incorporates specific conditions into the CPT and automatically controls the flow of demineralized water, as specified in the EPA response letter.

Abstract for [M070019]

Q1: Does EPA find that Train I and Train II Rotary Kiln Incinerators (RKI) at the Clean Harbors facility in Deer Park, Texas, with shrouds constructed at both ends, can be used as an alternative measure to control combustion gas leaks under 40 CFR part 63, subpart EEE?

A1: Yes. EPA conditionally approves the alternative monitoring request for RKI at the Clean Harbors facility, under MACT subpart EEE. The additional requirements that RKI would need to meet are set out in the EPA response letter.

Q2: Does EPA find that Train I and Train II RKIs at the Clean Harbors facility in Deer Park, Texas, which monitor stack gas flow rate, can be used instead of flue gas flow rate under 40 CFR part 63, subpart EEE?

A2: Yes. EPA determines that stack gas flow rate can be used instead of flue gas flow rate under MACT subpart EEE.

Q3: Does EPA approve that a measurement of pressure drop across the low energy wet scrubber be waived under 40 CFR part 63, subpart EEE for Train I and Train II RKIs at the Clean Harbors facility in Deer Park, Texas?

A3: Yes. EPA approves waiving a measurement of pressure drop across the wet scrubber, under MACT subpart EEE, provided that a minimum liquid to gas ratio is established and a scrubber is operated in accordance with design specifications set out in the EPA response letter.

Q4: Does EPA find that the liquid flow rate may be monitored in lieu of liquid feed pressure for a wet scrubber under 40 CFR part 63, subpart EEE, at the Clean Harbors facility in Deer Park, Texas?

A4: EPA determines that liquid flow rate may be monitored in lieu of liquid feed pressure under MACT subpart EEE, provided that the conditions specified in response A3, above are met, as specified in the EPA response letter.

Q5: Does EPA approve a 10-second delay if the pressure in the combustion zone remain positive for 30 continuous seconds to indicate a combustion system leak before an Automatic Waste Feed Cut-off (AWFCO) is engaged under 40 CFR part 63, subpart EEE for Train I and Train II RKIs at the Clean Harbors facility in Deer Park, Texas?

A5: No. EPA does not approve the 10-second delay since the justification provided is not acceptable. EPA determines that for purposes of MACT subpart EEE, an AWFCO must be engaged any time the pressure in the combustion system is positive for more than one second.

Abstract for [M070020]

Q: Does EPA approve a revision to the alternative monitoring plan that the Agency previously approved on December 12, 2003 for the Chalmette Refinery in Chalmette, Louisiana, to allow the facility the options under 40 CFR part 63, subpart G to reduce hazardous air pollutant emissions either by greater than 98 weight-percent or to a concentration of 20 parts per million by volume, whichever is less stringent?

A: Yes. EPA approves the revision to the alternative monitoring plan under NSPS subpart G, providing the facility both options offered by the regulations. The original conditions in the December 12, 2003 letter for application to EPA to reduce the frequency of monitoring still apply.

Abstract for [M070021]

Q1: The Dow Freeport Plant (Dow) Rotary Kiln Incinerator (RKI) located in Freeport, Texas has an IP.21 (data historian system) to calculate the hourly rolling average (HRA) and 12-hour rolling average. Is it allowed to continue burning hazardous waste while IP.21 is down, under 40 CFR part 63, subpart EEE?

A1: Yes. EPA finds that the RKI can continue burning hazardous waste while IP.21 is down if the Automatic Waste Feed Cut-off (AWFCO) is initiated based on an instantaneous data, as indicated in the EPA response letter.

Q2: Can the DOW RKI have positive pressure in the combustion zone for 30 seconds to indicate a combustion system leak and before the AWFCO is engaged, under 40 CFR part 63, subpart EEE?

A2: No. EPA denies the request for any time delay before triggering an AWFCO since pressure in the combustion chamber is higher than ambient pressure.

Q3: Can a freshwater make-up rate to the scrubber system be used as an alternative to measure blowdown rate and tank level to control and monitor solids content of the scrubber liquid at the Dow RKI, under 40 CFR part 63, subpart EEE?

A3: Yes. EPA finds that the freshwater make-up rate to the scrubber system can be used as an alternative to blowdown rate and tank level with requirements to establish and monitor the liquid to gas (L/G)ratio, as specified in the EPA response letter.

Q4: For a scrubber, along with minimum liquid and maximum flue gas flow, a minimum liquid feed pressure and minimum scrubber pump amperage are monitored. Can hazardous waste be allowed to burn if one of the three parameters is out of control at the Dow RKI, under 40 CFR part 63, subpart EEE?

A4: Yes. However, EPA finds that the AWFCO will be instituted if any two of the parameters exceed the operating parameter limits (OPL) established during the Comprehensive Performance Testing (CPT).

Q5: Can an AWFCO be instituted when there is a loss in any two states of Ionizing Wet Scrubber (IWS) at the Dow RKI, under 40 CFR part 63, subpart EEE?

A5: EPA will evaluate the results of the initial CPT with any three of the four IWS units operating shows, and if these are acceptable, then Dow will be allowed to set an AWFCO for power loss when more than one IWS units is `shut-down', as specified in the EPA response letter.

Q6: Can a requirement to establish an OPL for the temperature in the secondary combustion chamber (SCC) be waived at the Dow RKI, under 40 CFR part 63, subpart EEE?

A6: No. EPA finds that the requirement to establish an OPL for the temperature cannot be waived since the AWFCO must be triggered anytime the pressure in the SCC is higher than the ambient pressure.

Q7: Can a manufacturer's specification be used to establish a limit on the carbon bed's inlet temperature at the Dow RKI, under 40 CFR part 63, subpart EEE?

A7: EPA finds that the manufacturer's specification can be used if the facility operates the carbon bed in accordance with the manufacturer's specifications.

Q8: Can a requirement to monitor pH be waived for the acid absorber at the Dow RKI, under 40 CFR part 63, subpart EEE?

A8: A requirement to monitor pH can be waived if the absorber is operated within the HRA limits on L/G ration, minimum freshwater makeup flow rate, and total pressure drop across the scrubber.

Q9: Can pH be monitored on scrubber system comprising of an ionizing wet scrubber and a pre-scrubber and set it as AWFCO at the Dow RKI, under 40 CFR part 63, subpart EEE?

A9: Yes. EPA finds that the pH can be monitored on scrubber system and set it as AWFCO.

Q10: Can the Automatic Waste Feed Cut-off (AWFCO) be based on liquid feed pressure for individual scrubbers on the scrubber system at the Dow RKI, under 40 CFR part 63, subpart EEE?

A10: Yes. EPA finds that the AWFCO can be based on liquid feed pressure for individual scrubbers.

Abstract for [M070022]

Q: Does EPA approve an alternative test method and operating limit, under 40 CFR part 60, subpart XX and 40 CFR part 63, subpart R, for the Philtex/Ryton Complex in Borger, Texas?

A: Yes. EPA approves an alternative testing and operating limits specified in § 60.502(h) of MACT subpart XX and § 63.425(e) of subpart R on the basis of specific stipulations, which address: The maximum flow of vapors from loading operations; the heat content of vapors routed to the flare during loading operations; the leak tightness of rail cars; detecting leaks and repairing the vapor manifold system; verifying that excess emissions will not occur from storage tanks at the maximum pressures during loading; ensuring gasoline is loaded into only rail cars which pass the leak test; and monitoring the pressure continuously in the vapor collection manifold system.

Abstract for [M070023]

Q1: Should ANR Pipeline Company (ANR), which owns and operates reciprocating internal combustion engines (RICE) at a pipeline compressor station be required, under 40 CFR part 63, subpart ZZZZ, to start up the RICE for the sole purpose of recording the pressure drop across the catalyst as required by 40 CFR 63.6640(a) if it is not operating during a particular month? Does EPA approve ANR request to not start up the RICE under the condition described above for three compressor stations: The Woolfolk Compressor and the Reed City Compressor Stations in Michigan, and the Saint John Compressor Station in Indiana.

A1: Yes. EPA conditionally approves this request. ANR must document periods when the RICE is not operating, as required under § 63.6650 of MACT subpart ZZZZ.

Q2: ANR requests that EPA clarify the requirements at 40 CFR 63.6640(a) as they relate to its three compressor stations, the Woolfolk Compressor and the Reed City Compressor Stations in Michigan, and the St. John Compressor Station in Indiana. Specifically, ANR asks whether a RICE that is operated during a given month below the target window for percent load is required, under 40 CFR part 63, subpart ZZZZ, to increase the load for the sole purpose of measuring the pressure drop?

A2: No. ANR is not required to increase the load for the sole purpose of measuring pressure drop across the compressor stations. However, the ANR will be required to measure the pressure drop once the load is increased to the target window, or when operations exceed 30 days (regardless of load), and to document the time periods when the RICE is operated below the target window in its semi-annual report, as required under MACT subpart ZZZZ.

Q3: Does EPA approve that RICE, which does not have the ability to operate at full load due to restrictive operating parameters associated with the gas service that they support, be tested at a reduced load to establish the target window for measuring pressure drop across the catalyst, under 40 CFR part 63, subpart ZZZZ, at ANR facilities? ANR requests clarification in regards to three compressor stations, the Woolfolk Compressor and the Reed City Compressor Stations in Michigan, and the St. John Compressor Station in Indiana.

A3: EPA approves the alternative testing procedures for setting the target window for measuring pressure drop, under MACT subpart ZZZZ, provided that ANR establishes a lower maximum load rate and appropriate differential pressure ranges for the reduced load.

Q4: For a RICE that can never be operated at the target window, should ANR monitor the pressure drop when an established lower-load baseline is achieved in any given month, under 40 CFR part 63, subpart ZZZZ? ANR requests clarification in regards to three compressor stations, the Woolfolk Compressor and the Reed City Compressor Stations in Michigan, and the St. John Compressor Station in Indiana.

A4: Yes. EPA recommends that ANR measure monthly pressure drop when the units are operating to assure catalyst performance, even if the units are operating at a reduced load below the target window.

Abstract for [M070024]

Q1: Does EPA approve a waiver of the requirement under 40 CFR part 63, subpart EEE to establish operating parameter limits for waste viscosity, waste fuel delivery pressure, atomization pressure, etc., which ensure good operation of the firing system for a fluidized bed incinerator (FBI) with waste feeding through simple lances at the Eastman Chemical Company in Longview, Texas?

A1: EPA conditionally approves this waiver, with the condition that Automatic Waste Feed Cut-off (AWFCO) be instituted on minimum stack gas flow to ensure proper operation of fluidized bed, and amend the Comprehensive Performance Test plan, as detailed in the EPA response letter.

Q2: Does EPA approve a waiver of the requirement in 40 CFR part 63, subpart EEE, to monitor the liquid feed pressure for a hydrochloric acid and chlorine gas scrubber?

A2: EPA approves this waiver with the conditions that a minimum liquid to gas ratio for the scrubber must be established during the CPT and the scrubber must be operated in accordance with the manufacturer's design specifications.

Q3: Does EPA approve a waiver to establish a maximum combustion chamber pressure in an FBI?

A3: EPA approves this waiver with a condition to establish an upper limit for the pressure at the inlet end of the heat exchanger as an AWFCO operating parameter limit, based on historical data.

Abstract for [M070025]

Q1: Does EPA approve hourly rolling average (HRA) feed rate limitations in lieu of calculating 12-hour rolling average limits for ash, mercury, total chlorine, chlorides, and metals at Reynolds Metals Company Gum Springs Plant (Reynolds) in Arkadelphia, Arkansas, under 40 CFR part 63, subpart EEE?

A1: Yes. EPA conditionally approves the use of HRA based upon Reynolds establishing maximum feed rates during the Comprehensive Performance Test (CPT) for the pot liner mix, mercury, semi-volatile metals, low-volatile metals, and chlorine/chlorides, under MACT subpart EEE.

Q2: Can Reynolds use maximum inlet temperature at the baghouse inlet based on operating practice and engineering judgment instead of actual temperature measurement during CPT, under 40 CFR part 63, subpart EEE?

A2: Yes. EPA approves that Reynolds use maximum inlet temperature under MACT subpart EEE based on an operating practice and an engineering judgment instead of actual temperature during CPT.

Q3: Does EPA approve that Reynolds use instantaneous pressure limitations of minimum baghouse differential pressure (dp) along with continuous opacity monitoring system (COMS) reading of 15 percent to trigger an alarm and alert the operators for potential bag leak events at its facility, under 40 CFR part 63, subpart EEE?

A3: Yes. EPA conditionally approves the use of minimum dp, but with a 10 percent, rather than the requested 15 percent, COMS opacity reading on a 6-minute rolling average basis. Reynolds is required to maintain a minimum dip across the baghouse of 0.5 inches of water column on an instantaneous basis, as specified in the EPA response letter.

Q4: Does Reynolds get a waiver of the requirement to select operating parameter limits for the cyclones and instead use an existing operation and maintenance (O&M) plan for inspecting, maintenance, and performing corrective measures under 40 CFR part 63, subpart EEE?

A4: Yes. EPA approves the use of the existing O&M plan until proper OPLs are identified by EPA or the Arkansas Department of Environmental Quality, and limits are established under MACT subpart EEE.

Q5: Does EPA approve a request to waive the requirements to select parameters to ensure good operation of the waste firing system in the case where liquid waste is not atomized or injected into a flame zone at the Reynolds Metals Company Gum Springs Plant in Arkadelphia, Arkansas, under 40 CFR part 63, subpart EEE?

A5: EPA finds that a waiver under MACT subpart EEE is not needed because combustible liquid waste is not atomized or injected into a flame zone, so the requirement to establish parameter limits to ensure good operation of the liquid waste firing system is not applicable.

Abstract for [M070026]

Q1: Does EPA approve the use of data from Kiln 1, under 40 CFR part 63, subpart EEE, to show compliance and set operating parameter limits for Kiln 2 at the Ash Grove Cement Company Foreman Arkansas Plant (Ash Grove)? Note that Kiln 1 and Kiln 2 are identical in design, construction, and process operations. Kilns burn the same waste feed streams.

A1: Yes. EPA approves this request under MACT subpart EEE, because Kiln 1 and Kiln 2 are identical in every respect, including design, construction, and process operations. Both Kilns burn the same waste feed streams.

Q2: Does EPA approve that the Ash Grove use stack test data from mode 1 (hazardous waste in combustion chamber) to establish operating parameter limits (OPLs) for mode 2 (hazardous waste not in combustion chamber), under 40 CFR part 63, subpart EEE?

A2: Yes. EPA conditionally approves the request to use stack test data from mode 1 to establish OPLs for mode 2 under MACT subpart EEE. The OPLs developed using mode 1 should be based upon a worst case scenario, as mentioned in the EPA response letter.

Q3: Does EPA approve that the Ash Grove show destruction and removal efficiency (DRE) compliance for Kiln 3 (larger capacity unit) based on DRE test results from Kiln 1 (smaller capacity unit), under 40 CFR part 63, subpart EEE?

A3: Yes. EPA approves this request under MACT subpart EEE. Since the Resource Conservation and Recovery Act (RCRA) permit temperature requirements have been found to ensure compliance with the standard, stack testing of Kiln 1 will validate that no changes in the systems have occurred that will impact this proven relationship. The request to base minimum temperature OPLs on prior RCRA permit provisions will be determined following submittal and review of the Ash Grove's Comprehensive Performance Test (CPT) data results.

Q4: Does EPA approve extrapolation of metal feed rates under 40 CFR part 63, subpart EEE, for Kiln 2 based on results from a stack test conducted on Kiln 1 at the Ash Grove Cement Company Foreman Arkansas Plant?

A4: EPA is not able to make a determination under MACT subpart EEE until it has reviewed and accepted the CPT data results.

Q5: Does EPA find that the Ash Grove can compute the hourly rolling average based on the available clock minutes of data rather than lengthening the period of time over which an average is calculated when there are missing minutes within the clock period hour, under 40 CFR part 63, subpart EEE?

A5: Yes. EPA approves the alternative calculation method, which is specified in the current RCRA permit, under MACT subpart EEE. The proposed calculation method will provide equivalent performance to the method specified in the hazardous waste combustors (HWC) MACT rule since it is the same as the method used to establish OPLs. As required by the HWC MACT, the continuous monitoring system (CMS) must have 95 percent data availability to continue feeding hazardous waste. An Automatic Waste Feed Cut-off will take place should less than 95 percent data availability occur, or should the CMS fail to operate.

Abstract for [M070027]

Q1: Does EPA approve monitoring of combustion air and vent gas flow rates in lieu of stack gas flow rate as a measure of residence time, under 40 CFR part 63, subpart EEE, at the BASF facility located in Geismar, Louisiana?

A1: No. EPA finds that the information provided is insufficient to make any determination. The facility must provide mass balance and calculation of residence time for the three units as well as provide a variety of Piping and Instrument Diagrams.

Q2: Does EPA waive a requirement to monitor pH of the scrubber liquid as an operating parameter limit, under 40 CFR part 63, subpart EEE, at the BASF facility located in Geismar, Louisiana?

A2: No. EPA finds that the information provided is insufficient to make any determination. The facility must provide analysis of all feed streams including the process vents, and show the Maximum Theoretical Emission Concentration (MTEC) approach for chlorine/chloride (MTEC) calculations.

Abstract for [M070028]

Q1: Does EPA approve a request to waive the requirement under 40 CFR part 63 subpart 1209(l)(2) and 1209(o)(3)(iii) to monitor liquid feed pressure for the low energy wet scrubber on the Toluene Diisocyanate (TDI) Unit at the Lyondell Chemical Company in Lake Charles, Louisiana?

A1: No. EPA does not approve the waiver request. If the combustor is equipped with a low energy wet scrubber, Lyondell must establish a limit on minimum liquid feed pressure to the wet scrubber based on manufacturer's specifications and comply with the limit on an hourly rolling average.

Q2: Does EPA approve the facility's proposal to use hourly rolling average in lieu of 12-hour rolling average for ash, chloride, and metals, as required by 40 CFR part 63, subpart 1209(c)(4) Analysis of Feedstreams?

A2: Yes. EPA approves the request because Lyondell treats only a limited number of on-site generated waste streams in the TDI Process Incinerator. The waste streams generated from the on-site processes are of a relatively consistent composition.

Q3: Does EPA approve use of fail-safe system with a local pressure indicator gauge (non-CMS) to ensure proper atomizing air pressure and institute waste feed cutoff when pressure falls below 30 psig, in accordance with 40 CFR part 63, subpart 1209(j)(4), destruction and removal efficiency (DRE)?

A3: Yes. EPA approves the request because although this fail-safe system is not part of the continuous monitoring system or the Automatic Waste Feed Cut-off system, it provides equivalent compliance.

Q4: Does EPA approve pump speed/pump curves (extrapolation) as a backup feed rate measurement methodology to the mass flow rate to meet the requirements of 40 CFR part 63, subpart 1209(j)(3) and 1209(k)(4), destruction and removal efficiency DRE?

A4: Yes. EPA approves the request because with either method, the TDI residue feed rate data is displayed in the control room and recorded by the production unit's data historian.

Abstract for [M070029]

Q1: Does EPA approve monitoring of total freshwater makeup rate in lieu of blowdown rate and tank level to control and monitor solids content of the scrubber liquid, under 40 CFR part 63, subpart EEE, concerning the Thermal Treatment Unit (TTU) at the Dow plant located in Plaquemine, Louisiana?

A1: Yes. EPA conditionally approves the alternative monitoring request under MACT subpart EEE, subject to conditions about freshwater make-up rate, minimum liquid levels, and scrubber characteristics and performance, as specified in the EPA response letter.

Q2: Does EPA approve the request to waive the requirement to monitor the liquid feed pressure for the scrubbers, under 40 CFR part 63, subpart EEE, concerning the TTU at the Dow plant located in Plaquemine, Louisiana?

A2: Yes. EPA conditionally approves the waiver request to not monitor the liquid feed pressure for the scrubbers at TTU, under MACT subpart EEE since the liquid feed pressure limit is not a critical parameter for the performance of the ‘low energy’ scrubbers for the TTU. However, EPA requires further evaluation of mercury data and scrubber performance to make a final determination about the waiver request and to determine the need for a freshwater distributor in the caustic scrubber.

Q3: Does EPA grant a waiver to the TTU at the Dow plant located in Plaquemine, Louisiana, to measure the flue gas as a measure of residence time during Comprehensive Performance Testing, under 40 CFR part 63, subpart EEE?

A3: No. EPA finds that the information provided is insufficient to make a determination.

Q4: Does EPA find that the TTU at the Dow plant located in Plaquemine, Louisiana, can continue to burn waste while date historian system (IP.21) is down, under 40 CFR part 63, subpart EEE? IP.21 is used to calculate the Hourly Rolling Average (HRA) and 12-Hour Rolling Average.

A4: Yes. EPA conditionally approves the request under MACT subpart EEE, which would require that the facility manually calculates HRA, submits this information to EPA, and complies with all applicable monitoring and reporting requirements, specified in the EPA response letter.

Abstract for [M070030]

Q1: Does EPA approve monitoring of total freshwater makeup rate in lieu of blowdown rate along with tank level to control and monitor solids content of the scrubber liquid, under 40 CFR part 63, subpart EEE, for the Rotary Kiln Incinerator (RKI) at the Dow plant located in Plaquemine, Louisiana?

A1: Yes. EPA conditionally approves the request under MACT subpart EEE, as described in the EPA response letter. EPA finds that measurement of freshwater make-up, maintaining minimum sump level, and maintaining liquid to gas ratio in the scrubbers will ensure proper operation of the scrubber system. It will also ensure a maximum limit for the solids in the scrubber liquid.

Q2: Does EPA waive the requirement to monitor the liquid pressure drop across the scrubber, under 40 CFR part 63, subpart EEE, for the RKI at the Dow plant located in Plaquemine, Louisiana?

A2: No. EPA finds that the provided information is insufficient to make a determination.

Q3: Does EPA approve a waiver to monitor the liquid feed pressure for the scrubbers, under 40 CFR part 63, subpart EEE, for the RKI at the Dow plant located in Plaquemine, Louisiana?

A3: Yes. EPA conditionally approves the request under MACT subpart EEE, as specified in the EPA response letter. An effective performance of a wet scrubber requires proper distribution, and mixing of both liquid and gas in the scrubber. The packed-bed scrubbers in the RKI system are cross-current flow. The scrubber liquid is fed via pumps, through strainers, and into a header system that uses spray nozzles to distribute the liquid across packing. The liquid flow is currently measured and monitored using flow meters and transmitters. A loss of liquid flow and/or interference with the spray nozzle distribution can be detected by a change in flow to the header.

Q4: Does EPA approve instituting an Automatic Waste Feed Cut-off (AWFCO) after pressure remaining positive for 30 seconds as an indicative of combustion system leak, under 40 CFR part 63, subpart EEE, for the RKI at the Dow plant located in Plaquemine, Louisiana?

A4: No. EPA does not approve a time delay of 30 seconds for instituting AWFCO. The information provided for justification is insufficient.

Q5: Does EPA approve that the Dow facility located in Plaquemine, Louisiana, burns waste while the date historian system (IP.21) is down, under 40 CFR part 63, subpart EEE? IP.21 is used to calculate the Hourly Rolling Average (HRA) and 12-Hour rolling average.

A5: EPA approves this request under MACT subpart EEE, provided that the facility manually calculates HRA, submits this information to EPA, and complies with all applicable monitoring and reporting requirements as mentioned in the EPA response letter.

Abstract for [M080004]

Q: Is Spartech's process in Stamford, Connecticut, which manufactures poly methyl methacrylate (PMMA) acrylic sheet subject to 40 CFR part 63, subpart FFFF?

A: Yes. EPA determines Spartech's operations produce a material (PMMA) classified using the United States Standard Industrial Classification (SIC) code 282 or North American Industry Classification System (NAICS) code 325, and its operations meet all the other criteria for applicability under 40 CFR 63.2435.

Abstract for [Z070002]

Q1: Is Anadarko's double-chamber cyclonator forced-air solid waste incinerator with a capacity of 2.4 tons per day, constructed after November 1999, that has been seasonally located and intermittently operated at remote oil and gas exploration sites on the North Slope of Alaska since January 2003, subject to 40 CFR part 60, subpart CCCC?

A1: Yes, EPA concludes that a waste incinerator with a capacity of 2.4 tons per day, constructed after November 1999, that has been seasonally located and intermittently operated at remote oil and gas exploration sites on the North Slope of Alaska is subject to NSPS subpart CCCC. EPA considers this incinerator to be located at an industrial facility, and regardless of the fact that the incinerator may be moved from one location to the next, it will be a distinct operating unit of an industrial facility.

Q2: Is 40 CFR part 61, subpart E, applicable to an incineration unit that incinerates untreated sanitary waste (solids) collected from Pacto toilets?

A2: No. EPA considers the Mercury NESHAP to apply to “those stationary sources which * * * incinerate or dry wastewater treatment plant sludge.” Under 40 CFR 61.51, sludge is defined as “sludge produced by a treatment plant that processes municipal or industrial waste waters.” The practice of incinerating sanitary waste composed of untreated solids from Pacto toilets does not meet the description of incinerating sludge under the Mercury NESHAP. Thus, the Mercury NESHAP would not apply.

Abstract for [Z080001]

Q: Does EPA consider the gas processing system which includes reciprocating internal combustion (IC) engines at the Austin Community Landfill in Austin, Texas, to be treatment under 40 CFR part 60, subpart WWW, pursuant to 40 CFR 60.752(b)(2)(iii)(C)?

A: Yes. EPA considers the specified compression, filtration, and moisture removal from the landfill gas for use in an energy recovery device to be treatment under NSPS subpart WWW, pursuant to 40 CFR 60.752(b)(2)(iii)(C). Because the engines will be exempt from monitoring, they do not have to be included in the Startup, Shutdown, and Malfunction (SSM) Plan required by 40 CFR part 63, subpart AAAA. However, the treatment system supplying gas to the IC engines will have to be included in the SSM Plan.

Abstract for [Z080002]

Q: Does EPA consider the gas processing system which includes two turbines at the DFW Recycling and Disposal Facility in Lewisville, Texas, to be treatment under 40 CFR part 60, subpart WWW, pursuant to 40 CFR 60.752(b)(2)(iii)(C)?

A: Yes. EPA considers the specified compression, filtration, and moisture removal from the landfill gas for use in an energy recovery device to be treatment under NSPS subpart WWW, pursuant to 40 CFR 60.752(b)(2)(iii)(C). Because the turbines will be exempt from monitoring, they do not have to be included in the Startup, Shutdown, and Malfunction (SSM) Plan required by 40 CFR part 63, subpart AAAA. However, the treatment system supplying gas to the turbines will have to be included in the SSM Plan.

Lisa C. Lund,
Director, Office of Compliance.

[FR Doc. E8-17489 Filed 7-30-08; 8:45 am]

BILLING CODE 6560-50-P